ENVIRONMENTAL PROTECTION AGENCY

40 CFR Part 52

[VA200-5100; FRL-7985-6]

Approval and Promulgation of Air Quality Implementation Plans; Virginia; Update to Materials Incorporated by Reference

AGENCY: Environmental Protection Agency (EPA).

ACTION: Final rule; Notice of administrative change.

SUMMARY: EPA is updating the materials submitted by The Commonwealth of Virginia that are incorporated by reference (IBR) into the State implementation plan (SIP). The regulations affected by this update have been previously submitted by the State agency, the Virginia Department of Environmental Quality, and approved by EPA. This update affects the SIP materials that are available for public inspection at the National Archives and Records Administration (NARA), the Air and Radiation Docket and Information Center located at EPA Headquarters in Washington, DC, and the Regional Office.

EFFECTIVE DATE: This action is effective November 3, 2005.

ADDRESSES: SIP materials which are incorporated by reference into 40 CFR part 52 are available for inspection at the following locations: Air Protection Division, U.S. Environmental Protection Agency, Region III, 1650 Arch Street, Philadelphia, Pennsylvania 19103; the Air and Radiation Docket and Information Center, U.S. Environmental Protection Agency, 1301 Constitution Avenue, NW., Room B108, Washington, DC 20460; or the National Archives and Records Administration (NARA). For information on the availability of this material at NARA, call 202-741-6030, or go to: http://www.archives.gov/federal_register/code_of_federal_regulations/ibr_locations.html.

FOR FURTHER INFORMATION CONTACT: Harold A. Frankford, (215) 814-2108 or by e-mail at frankford.harold@epa.gov.

SUPPLEMENTARY INFORMATION: The SIP is a living document which the State can revise as necessary to address the unique air pollution problems. Therefore, EPA from time to time must take action on SIP revisions containing new and/or revised regulations as being part of the SIP. On May 22, 1997 (62 FR 27968), EPA revised the procedures for incorporating by reference federally-approved SIPs, as a result of consultations between EPA and the Office of the Federal Register (OFR). The description of the revised SIP document, IBR procedures and “Identification of plan” format are discussed in further detail in the May 22, 1997 Federal Register document. On April 21, 2000 (65 FR 21315), EPA published a Federal Register beginning the new IBR procedure for Virginia. On September 8, 2004 (69 FR 54216), EPA published an update to the IBR material for Virginia. In this document, EPA is doing the following:

1. Announcing the second update to the IBR material.

2. Making corrections to the charts listed in paragraphs 52.2420(c) and (d), as described below:

a. Chapter 20, the two entries for Section 5-20-206 are combined into a single entry, with two separate Federal Register date and page citations and expanded text in the “Explanation [former SIP citation]” column.

b. Chapter 40, entries for Articles 42 (Emissions Standards for Portable Fuel Container Spillage in the Northern Virginia Volatile Organic Compound Emissions Control Area), 47 (Emission Standards for Solvent Metal Cleaning Operations in the Northern Virginia Volatile Organic Compound Emissions Control Area), and 48 (Emission Standards for Mobile Equipment Repair and Refinishing Operations in the Northern Virginia Volatile Organic Compound Emissions Control Area)—the text in the “Explanation [former SIP citation]” column is removed.

c. Chapter 40, entry 5-40-120—the text in the “Title/subject” column is revised.

d. Chapter 50, entry 5-50-120—the text in the “Title/subject” column is revised.

e. Code of Virginia, entry 10.1-1316.1.A.—the text in the “EPA approval date” column is revised by adding a Federal Register page citation.

f. Prince William County Landfill—the text in the “40 CFR part 52 citation” column is revised.

EPA has determined that today's rule falls under the “good cause” exemption in section 553(b)(3)(B) of the Administrative Procedures Act (APA) which, upon finding “good cause,” authorizes agencies to dispense with public participation, and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by removing outdated citations and incorrect chart entries.

Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 99 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the Clean Air Act pertaining to petitions for judicial review are not applicable to this action. Prior EPA rulemaking actions for each individual component of the Virginia SIP compilations had previously afforded interested parties the opportunity to file a petition for judicial review in the United States Court of Appeals for the appropriate circuit within 60 days of such rulemaking action. Thus, EPA sees no need in this action to reopen the 60-day period for filing such petitions for judicial review for these “Identification of plan” reorganization update actions for Virginia.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: October 5, 2005.
Donald S. Welsh,
Regional Administrator, Region III.

40 CFR part 52 is amended as follows:

PART 52—[AMENDED]

1. The authority for citation for part 52 continues to read as follows:

Authority: 42.U.S.C. 7401 et seq.

Subpart VV—Virginia

2. Section 52.2420 is amended by revising paragraphs (b), (c) and (d) to read as follows:

§ 52.2420 Identification of plan.

* * * * *

(b) Incorporation by reference.

(1) Material listed as incorporated by reference in paragraphs (c) and (d) was approved for incorporation by reference by the Director of the Federal Register in accordance with 5 U.S.C. 552(a) and 1 CFR part 51. Material incorporated as it exists on the date of the approval, and notice of any change in the material will be published in the Federal Register. Entries in paragraphs (c) and (d) of this section with EPA approval dates on or after September 1, 2005, will be incorporated by reference in the next update to the SIP compilation.

(2) EPA Region III certifies that the rules/regulations provided by EPA at the addresses in paragraph (b)(3) of this section are an exact duplicate of the officially promulgated State rules/regulations which have been approved as part of the State implementation plan as of September 1, 2005.

(3) Copies of the materials incorporated by reference may be inspected at the EPA Region III Office at 1650 Arch Street, Philadelphia, PA 19103; the EPA, Air and Radiation Docket and Information Center, Air Docket (6102), 1301Constitution Avenue, NW., Room B108, Washington, DC. 20460; or at the National Archives and Records Administration (NARA). For information on the availability of this material at NARA, call 202-741-6030, or go to: http://www.archives.gov/federal_register/code_of_federal_regulations/ibr_locations.html.

(c) EPA-Approved regulations.

EPA-Approved Virginia Regulations and Statutes
State citation (9 VAC 5) | Title/subject | State effective date | EPA approval date | Explanation [former SIP citation]
Chapter 10 General Definitions [Part I]
5-10-10 | General | 8/1/02 | 3/15/04, 69 FR 12074 | Revised paragraphs A, B, C.
5-10-20 | Terms Defined—Definitions of Administrator, Federally Enforceable, Implementation Plan, Potential to Emit, State Enforceable, Volatile Organic Compound | 4/1/96 | 3/12/97, 62 FR 11334 | § 52.2465(c) (113)(i)(B)(1).
5-10-20 | Terms Defined—Added Terms—Department, Virginia Register Act. Revised Terms—Administrative Process Act, Director (replaces Executive Director), Virginia Air Pollution Control Law | 4/17/95 | 4/21/00, 65 FR 21315
5-10-20 | Terms Defined [all other SIP-approved terms not listed above] | 4/17/95 | 4/21/00, 65 FR 21315 | 120-01-02.
5-10-20 | Terms Defined | 1/1/98 | 1/7/03, 68 FR 663 | Terms Added—Public hearing; Regulations for the Control and Abatement of Air Pollution, Regulation of the Board, . . . These regulations. Terms Revised—Good Engineering Practice, Person, Volatile organic compound. Terms Deleted (moved to 9 VAC 5-170-20)—Administrative Process Act, Air quality maintenance area, Confidential information, Consent agreement, Consent order, Emergency special order, Order, Special order, Variance.
5-10-20 | Terms Defined | 8/1/02 | 3/15/04, 69 FR 12074 | Terms Added: EPA, Initial emissions test, Initial performance test (as corrected 11/05/03 and effective 01/01/04 in the Commonwealth), Maintenance area. Terms Revised: Affected facility, Delayed compliance order, Excessive concentration, Federally enforceable, Malfunction, Public hearing, Reference method, Reid vapor pressure, Stationary source, True vapor pressure, Vapor pressure, Volatile organic compounds. Terms Removed: Air Quality Maintenance Area.
5-10-30 | Abbreviations | 7/1/97 | 4/21/00, 65 FR 21315 | Appendix A.
Chapter 20 General Provisions
Part I Administrative
5-20-10A.-C. | Applicability | 4/17/95 | 4/21/00, 65 FR 21315 | 120-02-01.
5-20-70 | Circumvention | 4/17/95 | 4/21/00, 65 FR 21315 | 120-02-07.
5-20-80 | Relationship of state regulations to federal regulations | 4/17/95 | 4/21/00, 65 FR 21315 | 120-02-08.
5-20-121 | Air Quality Program Policies and Procedures | 7/1/97 | 4/21/00, 65 FR 21315 | Appendix S.
Part II Air Quality Programs
5-20-160 | Registration | 4/17/95 | 4/21/00, 65 FR 21315 | 120-02-31.
5-20-170 | Control Programs | 4/17/95 | 4/21/00, 65 FR 21315 | 120-02-32.
5-20-180 | Facility and Control Equipment Maintenance or Malfunction | 4/17/95 | 4/21/00, 65 FR 21315 | 120-02-34.
5-20-200 | Air Quality Control Regions (AQCR) | 7/1/97 | 4/21/00, 65 FR 21315 | Appendix B.
5-20-202 | Metropolitan Statistical Areas | 7/1/97 | 4/21/00, 65 FR 21315 | Appendix G.
5-20-203 | Air Quality Maintenance Areas (AQMA) | 7/1/97 | 4/21/00, 65 FR 21315 | Appendix H.
5-20-204 | Nonattainment Areas | 7/1/97 | 4/21/00, 65 FR 21315 | Appendix K.
5-20-205 | Prevention of Significant Deterioration Areas | 1/1/97 | 3/23/98, 63 FR 13795 | Former Appendix L—Effective 2/1/92.
5-20-206 | Volatile Organic Compound and Nitrogen Oxides Emissions Control Areas | 3/24/04 | 4/27/05, 70 FR 21625 | New 5-20-206.1.e. applicable to the Western Virginia VOC Emissions Control Area.
|  |  | 6/20/05, 70 FR 35379 | Revised 5-20-206.1.c. applicable to the Hampton Roads VOC Emissions Control Area.
5-20-220 | Shutdown of a stationary source | 4/1/98 | 6/27/03, 68 FR 38191
5-20-230 | Certification of Documents | 4/1/98 | 6/27/03, 68 FR 38191
VR120, Part II General Provisions
VR120-02-02 VR120-02-04 VR120-02-05A VR 2.05(b) VR120-02-09 VR120-02-12 Appendix E Appendix F | Establishment of Regulations and Orders Hearings and Proceedings Variances—General Variances—Fuel Emergency Appeals Procedural information and guidance Public Participation Guidelines Delegation of Authority | 2/1/85 2/1/85 2/1/85 8/14/75 2/1/85 2/1/85 2/1/85 2/1/85 | 2/25/93, 58 FR 11373 2/25/93, 58 FR 11373 2/25/93, 58 FR 11373 10/8/80, 45 FR 66792 2/25/93, 58 FR 11373 2/25/93, 58 FR 11373 2/25/93, 58 FR 11373 2/25/93, 58 FR 11373 | EPA has informed VA that except for the Appeals rule, these provisions no longer need to be part of the SIP. VA has withdrawn 2/93 and 2/98 revisions to the Appeals rule from SIP review. Last substantive SIP change became State-effective on 8/6/79 [§ 52.2465(c)(55)].
Chapter 30 Ambient Air Quality Standards [Part III]
5-30-10 | General | 4/17/95 | 4/21/00, 65 FR 21315 | 120-03-01.
5-30-30 | Sulfur Oxides (Sulfur Dioxide) | 4/17/95 | 4/21/00, 65 FR 21315 | 120-03-03.
5-30-40 | Carbon Monoxide | 4/17/95 | 4/21/00, 65 FR 21315 | 120-03-04.
5-30-50 | Ozone | 4/17/95 | 4/21/00, 65 FR 21315 | 120-03-05.
5-30-60 | Particulate Matter (PM10) | 4/17/95 | 4/21/00, 65 FR 21315 | 120-03-06.
5-30-70 | Nitrogen Dioxide | 4/17/95 | 4/21/00, 65 FR 21315 | 120-03-07.
5-30-80 | Lead | 4/17/95 | 4/21/00, 65 FR 21315 | 120-03-08.
Chapter 40 Existing Stationary Sources [Part IV]
Part I Special Provisions
5-40-10 | Applicability | 8/1/02 | 3/15/04, 69 FR 12074 | Revised paragraphs A, B, and C; added paragraph D.
5-40-20 (except paragraph A.4.) | Compliance | 8/1/02 | 3/15/04, 69 FR 12074 | Added new paragraph A.2 and revised renumbered paragraph A.3; added new paragraph G, revised paragraphs H, H.1, H.1.b through e; revised paragraphs I, I.2, I.3 and I.4; added new paragraph J. Note: New paragraph A.4. is not included in the SIP revision.
5-40-21 | Compliance Schedules | 7/1/97 | 4/21/00, 69 FR 21315 | Appendix N.
5-40-22 | Interpretation of Emissions Standards Based on Process Weight-Rate Tables | 7/1/97 | 4/21/00, 65 FR 21315 | Appendix Q.
5-40-30 | Emission Testing | 8/1/02 | 3/15/04, 69 FR 12074 | Revised Paragraphs A and F.1; Note: Revisions to paragraph C are not included in SIP revision.
5-40-40 | Monitoring | 8/1/02 | 3/15/04, 69 FR 12074 | Revised paragraph B, and E.1; added paragraph E.12.
5-40-41 | Emission Monitoring Procedures for Existing Sources | 7/1/97 | 4/21/00, 65 FR 21315 | Appendix J.
5-40-50 | Notification, Records and Reporting | 8/1/02 | 3/15/04, 69 FR 12074 | Added new paragraph A.3; revised paragraphs C, C.1, C.2 and C.3., D, E and F.
Part II Emission Standards
Article 1 Visible Emissions and Fugitive Dust/Emissions (Rule 4-1)
5-40-60 | Applicability and Designation of Affected Facility | 4/17/95 | 4/21/00, 65 FR 21315 | 120-04-0101.
5-40-70 | Definitions | 4/17/95 | 4/21/00, 65 FR 21315 | 120-04-0102.
5-40-80 | Standard for Visible Emissions | 4/17/95 | 4/21/00, 65 FR 21315 | 120-04-0103.
5-40-90 | Standard for Fugitive Dust/Emissions | 2/1/03 | 4/29/05, 70 FR 22263. |
5-40-100 | Monitoring | 4/17/95 | 4/21/00, 65 FR 21315 | 120-04-0105.
5-40-110 | Test Methods and Procedures | 4/17/95 | 4/21/00, 65 FR 21315 | 120-04-0106.
5-40-120 | Waivers | 2/1/03 | 4/29/05, 70 FR 22263. |
Article 4 Emission Standards for General Process Operations (Rule 4-4)
5-40-240 | Applicability and Designation of Affected Facility | 3/24/04 | 4/27/05, 70 FR 21625 |
5-40-250 | Definitions | 4/17/95 | 4/21/00, 65 FR 21315 | 120-04-0402.
5-40-260 | Standard for Particulate Matter (AQCR 1-6) | 4/17/95 | 4/21/00, 65 FR 21315 | 120-04-0403.
5-40-270 | Standard for Particulate Matter (AQCR 7) | 4/17/95 | 4/21/00, 65 FR 21315 | 120-04-0404.
5-40-280 | Standard for Sulfur Dioxide | 4/17/95 | 4/21/00, 65 FR 21315 | 120-04-0405.
5-40-300 | Standard for Volatile Organic Compounds | 4/1/96 | 3/12/97, 62 FR 11332. |
5-40-310A.-E. | Standard for Nitrogen Oxides | 3/24/04 | 4/27/05, 70 FR 21625. |
5-40-311 | Reasonably available control technology guidelines for stationary sources of nitrogen dioxide | 7/1/97 | 4/28/99, 64 FR 22792 | 52.2420(c)(132) Exceptions: 311C.3.a, C.3.c, D.
5-40-320 | Standard for Visible Emissions | 4/17/95 | 4/21/00, 65 FR 21315 | 120-04-0409.
5-40-330 | Standard for Fugitive Dust/Emissions | 4/17/95 | 4/21/00, 65 FR 21315 | 120-04-0410.
5-40-360 | Compliance | 4/17/95 | 4/21/00, 65 FR 21315 | 120-04-0413.
5-40-370 | Test Methods and Procedures | 4/17/95 | 4/21/00, 65 FR 21315 | 120-04-0414.
5-40-380 | Monitoring | 4/17/95 | 4/21/00, 65 FR 21315 | 120-04-0415.
5-40-390 | Notification, Records and Reporting | 4/17/95 | 4/21/00, 65 FR 21315 | 120-04-0416.
5-40-400 | Registration | 4/17/95 | 4/21/00, 65 FR 21315 | 120-04-0417.
5-40-410 | Facility and Control Equipment Maintenance or Malfunction | 4/17/95 | 4/21/00, 65 FR 21315 | 120-04-0418.
5-40-420 | Permits | 4/17/95 | 4/21/00, 65 FR 21315 | 120-04-0419.
Article 5 Emission Standards for Synthesized Pharmaceutical Products Manufacturing Operations (Rule 4-5)
5-40-430 | Applicability and Designation of Affected Facility | 4/17/95 | 4/21/00, 65 FR 21315 | 120-04-0501.
5-40-440 | Definitions | 4/17/95 | 4/21/00, 65 FR 21315 | 120-04-0502.
4-40-450 | Standard for Volatile Organic Compounds | 4/17/95 | 4/21/00, 65 FR 21315 | 120-04-0503.
5-40-460 | Control Technology Guidelines | 4/17/95 | 4/21/00, 65 FR 21315 | 120-04-0504.
5-40-470 | Standard for Visible Emissions | 4/17/95 | 4/21/00, 65 FR 21315 | 120-04-0505.
5-40-480 | Standard for Fugitive Dust/Emissions | 4/17/95 | 4/21/00, 65 FR 21315 | 120-04-0506.
5-40-510 | Compliance | 4/17/95 | 4/21/00, 65 FR 21315 | 120-04-0509.
5-40-520 | Test Methods and Procedures | 4/17/95 | 4/21/00, 65 FR 21315 | 120-04-0510.
5-40-530 | Monitoring | 4/17/95 | 4/21/00, 65 FR 21315 | 120-04-0511.
5-40-540 | Notification, Records and Reporting | 4/17/95 | 4/21/00, 65 FR 21315 | 120-04-0512.
5-40-550 | Registration | 4/17/95 | 4/21/00, 65 FR 21315 | 120-04-0513.
5-40-560 | Facility and Control Equipment Maintenance or Malfunction | 4/17/95 | 4/21/00, 65 FR 21315 | 120-04-0514.
5-40-570 | Permits | 4/17/95 | 4/21/00, 65 FR 21315 | 120-04-0515.
Article 6 Emission Standards for Rubber Tire Manufacturing Operations (Rule 4-6)
5-40-580 | Applicability and Designation of Affected Facility | 4/17/95 | 4/21/00, 65 FR 21315 | 120-04-0601.
5-40-590 | Definitions | 4/17/95 | 4/21/00, 65 FR 21315 | 120-04-0602.
5-40-600 | Standard for Volatile Organic Compounds | 4/17/95 | 4/21/00, 65 FR 21315 | 120-04-0603.
5-40-610 | Control Technology Guidelines | 4/17/95 | 4/21/00, 65 FR 21315 | 120-04-0604.
5-40-620 | Standard for Visible Emissions | 4/17/95 | 4/21/00, 65 FR 21315 | 120-04-0605.
5-40-660 | Compliance | 4/17/95 | 4/21/00, 65 FR 21315 | 120-04-0609.
5-40-670 | Test Methods and Procedures | 4/17/95 | 4/21/00, 65 FR 21315 | 120-04-0610.
5-40-680 | Monitoring | 4/17/95 | 4/21/00, 65 FR 21315 | 120-04-0611.
5-40-690 | Notification, Records and Reporting | 4/17/95 | 4/21/00, 65 FR 21315 | 120-04-0612.
5-40-700 | Registration | 4/17/95 | 4/21/00, 65 FR 21315 | 120-04-0613.
5-40-710 | Facility and Control Equipment Maintenance or Malfunction | 4/17/95 | 4/21/00, 65 FR 21315 | 120-04-0614.
5-40-720 | Permits | 4/17/95 | 4/21/00, 65 FR 21315 | 120-04-0615.
Article 7 Emission Standards for Incinerators (Rule 4-7)
5-40-730 | Applicability and Designation of Affected Facility | 4/17/95 | 4/21/00, 65 FR 21315 | 120-04-0701.
5-40-740 | Definitions | 4/17/95 | 4/21/00, 65 FR 21315 | 120-04-0702.
5-40-750 | Standard for Particulate Matter | 4/17/95 | 4/21/00, 65 FR 21315 | 120-04-0703.
5-40-760 | Standard for Visible Emissions | 4/17/95 | 4/21/00, 65 FR 21315 | 120-04-0704.
5-40-770 | Standard for Fugitive Dust/Emissions | 4/17/95 | 4/21/00, 65 FR 21315 | 120-04-0705.
5-40-800 | Prohibition of Flue-Fed Incinerators | 4/17/95 | 4/21/00, 65 FR 21315 | 120-04-0708.
5-40-810 | Compliance | 4/17/95 | 4/21/00, 65 FR 21315 | 120-04-0709.
5-40-820 | Test Methods and Procedures | 4/17/95 | 4/21/00, 65 FR 21315 | 120-04-0710.
5-40-830 | Monitoring | 4/17/95 | 4/21/00, 65 FR 21315 | 120-04-0711.
5-40-840 | Notification, Records and Reporting | 4/17/95 | 4/21/00, 65 FR 21315 | 120-04-0712.
5-40-850 | Registration | 4/17/95 | 4/21/00, 65 FR 21315 | 120-04-0713.
5-40-860 | Facility and Control Equipment Maintenance or Malfunction | 4/17/95 | 4/21/00, 65 FR 21315 | 120-04-0714.
5-40-870 | Permits | 4/17/95 | 4/21/00, 65 FR 21315 | 120-04-0715.
Article 8 Emission Standards for Fuel Burning Equipment (Rule 4-8)
5-40-880 | Applicability and Designation of Affected Facility | 4/1/99 | 5/31/01, 66 FR 29495
5-40-890 | Definitions | 4/1/99 | 5/31/01, 66 FR 29495. |
5-40-900 | Standard for Particulate Matter | 4/1/99 | 5/31/01, 66 FR 29495. |
5-40-910 | Emission Allocation System | 4/17/95 | 4/21/00, 65 FR 21315 | 120-04-0804.
5-40-920 | Determination of Collection Equipment Efficiency Factor | 4/17/95 | 4/21/00, 65 FR 21315 | 120-04-0805.
5-40-930 | Standard for Sulfur Dioxide | 4/17/95 | 4/21/00, 65 FR 21315 | 120-04-0806.
5-40-940 | Standard for Visible Emissions | 4/1/99 | 5/31/01, 66 FR 29495 |
5-40-950 | Standard for Fugitive Dust/Emissions | 4/17/95 | 4/21/00, 65 FR 21315 | 120-04-0808.
5-40-980 | Compliance | 4/17/95 | 4/21/00, 65 FR 21315 | 120-04-0811.
5-40-990 | Test Methods and Procedures | 4/17/95 | 4/21/00, 65 FR 21315 | 120-04-0812.
5-40-1000 | Monitoring | 4/17/95 | 4/21/00, 65 FR 21315 | 120-04-0813.
5-40-1010 | Notification, Records and Reporting | 4/17/95 | 4/21/00, 65 FR 21315 | 120-04-0814.
5-40-1020 | Registration | 4/17/95 | 4/21/00, 65 FR 21315 | 120-04-0815.
5-40-1030 | Facility and Control Equipment Maintenance or Malfunction | 4/17/95 | 4/21/00, 65 FR 21315 | 120-04-0816.
5-40-1040 | Permits | 4/1/99 | 5/31/01, 66 FR 29495. |
Article 9 Emission Standards for Coke Ovens (Rule 4-9)
5-40-1050 | Applicability and Designation of Affected Facility | 4/17/95 | 4/21/00, 65 FR 21315 | 120-04-0901.
5-40-1060 | Definitions | 4/17/95 | 4/21/00, 65 FR 21315 | 120-04-0902.
5-40-1070 | Standard for Particulate Matter | 4/17/95 | 4/21/00, 65 FR 21315 | 120-04-0903.
5-40-1080 | Standard for Sulfur Dioxide | 4/17/95 | 4/21/00, 65 FR 21315 | 120-04-0904.
5-40-1090 | Standard for Visible Emissions | 4/17/95 | 4/21/00, 65 FR 21315 | 120-04-0905.
5-40-1100 | Standard for Fugitive Dust/Emissions | 4/17/95 | 4/21/00, 65 FR 21315 | 120-04-0906.
5-40-1130 | Compliance | 4/17/95 | 4/21/00, 65 FR 21315 | 120-04-0909.
5-40-1140 | Test Methods and Procedures | 4/17/95 | 4/21/00, 65 FR 21315 | 120-04-0910.
5-40-1150 | Monitoring | 4/17/95 | 4/21/00, 65 FR 21315 | 120-04-0911.
5-40-1160 | Notification, Records and Reporting | 4/17/95 | 4/21/00, 65 FR 21315 | 120-04-0912.
5-40-1170 | Registration | 4/17/95 | 4/21/00, 65 FR 21315 | 120-04-0913.
5-40-1180 | Facility and Control Equipment Maintenance or Malfunction | 4/17/95 | 4/21/00, 65 FR 21315 | 120-04-0914.
5-40-1190 | Permits | 4/17/95 | 4/21/00, 65 FR 21315 | 120-04-0915.
Article 10 Emission Standards for Asphalt Concrete Plants (Rule 4-10)
5-40-1200 | Applicability and Designation of Affected Facility | 4/17/95 | 4/21/00, 65 FR 21315 | 120-04-1001.
5-40-1210 | Definitions | 4/17/95 | 4/21/00, 65 FR 21315 | 120-04-1002.
5-40-1220 | Standard for Particulate Matter | 4/17/95 | 4/21/00, 65 FR 21315 | 120-04-1003.
5-40-1230 | Standard for Visible Emissions | 4/17/95 | 4/21/00, 65 FR 21315 | 120-04-1004.
5-40-1240 | Standard for Fugitive Dust/Emissions | 4/17/95 | 4/21/00, 65 FR 21315 | 120-04-1005.
5-40-1270 | Compliance | 4/17/95 | 4/21/00, 65 FR 21315 | 120-04-1008.
5-40-1280 | Test Methods and Procedures | 4/17/95 | 4/21/00, 65 FR 21315 | 120-04-1009.
5-40-1290 | Monitoring | 4/17/95 | 4/21/00, 65 FR 21315 | 120-04-1010.
5-40-1300 | Notification, Records and Reporting | 4/17/95 | 4/21/00, 65 FR 21315 | 120-04-1011.
5-40-1310 | Registration | 4/17/95 | 4/21/00, 65 FR 21315 | 120-04-1012.
5-40-1320 | Facility and Control Equipment Maintenance or Malfunction | 4/17/95 | 4/21/00, 65 FR 21315 | 120-04-1013.
5-40-1330 | Permits | 4/17/95 | 4/21/00, 65 FR 21315 | 120-04-1014.
Article 11 Emission Standards for Petroleum Refinery Operations (Rule 4-11)
5-40-1340 | Applicability and Designation of Affected Facility | 4/17/95 | 4/21/00, 65 FR 21315 | 120-04-1101.
5-40-1350 | Definitions | 4/17/95 | 4/21/00, 65 FR 21315 | 120-04-1102.
5-40-1360 | Standard for Particulate Matter | 4/17/95 | 4/21/00, 65 FR 21315 | 120-04-1103.
5-40-1370 | Standard for Sulfur Dioxide | 4/17/95 | 4/21/00, 65 FR 21315 | 120-04-1104.
5-40-1390 | Standard for Volatile Organic Compounds | 4/17/95 | 4/21/00, 65 FR 21315 | 120-04-1106.
5-40-1400 | Control Technology Guidelines | 4/17/95 | 4/21/00, 65 FR 21315 | 120-04-1107.
5-40-1410 | Standard for Visible Emissions | 4/17/95 | 4/21/00, 65 FR 21315 | 120-04-1108.
5-40-1420 | Standard for Fugitive Dust/Emissions | 4/17/95 | 4/21/00, 65 FR 21315 | 120-04-1109.
5-40-1450 | Compliance | 4/17/95 | 4/21/00, 65 FR 21315 | 120-04-1112.
5-40-1460 | Test Methods and Procedures | 4/17/95 | 4/21/00, 65 FR 21315 | 120-04-1113.
5-40-1470 | Monitoring | 4/17/95 | 4/21/00, 65 FR 21315 | 120-04-1114.
5-40-1480 | Notification, Records and Reporting | 4/17/95 | 4/21/00, 65 FR 21315 | 120-04-1115.
5-40-1490 | Registration | 4/17/95 | 4/21/00, 65 FR 21315 | 120-04-1116.
5-40-1500 | Facility and Control Equipment Maintenance or Malfunction | 4/17/95 | 4/21/00, 65 FR 21315 | 120-04-1117.
5-40-1510 | Permits | 4/17/95 | 4/21/00, 65 FR 21315 | 120-04-1118.
Article 12 Emission Standards for Chemical Fertilizer Manufacturing Operations (Rule 4-12)
5-40-1520 | Applicability and Designation of Affected Facility | 4/17/95 | 4/21/00, 65 FR 21315 | 120-04-1201.
5-40-1530 | Definitions | 4/17/95 | 4/21/00, 65 FR 21315 | 120-04-1202.
5-40-1540 | Standard for Particulate Matter | 4/17/95 | 4/21/00, 65 FR 21315 | 120-04-1203.
5-40-1550 | Standard for Visible Emissions | 4/17/95 | 4/21/00, 65 FR 21315 | 120-04-1204.
5-40-1560 | Standard for Fugitive Dust/Emissions | 4/17/95 | 4/21/00, 65 FR 21315 | 120-04-1205.
5-40-1590 | Compliance | 4/17/95 | 4/21/00, 65 FR 21315 | 120-04-1208.
5-40-1600 | Test Methods and Procedures | 4/17/95 | 4/21/00, 65 FR 21315 | 120-04-1209.
5-40-1610 | Monitoring | 4/17/95 | 4/21/00, 65 FR 21315 | 120-04-1210.
5-40-1620 | Notification, Records and Reporting | 4/17/95 | 4/21/00, 65 FR 21315 | 120-04-1211.
5-40-1630 | Registration | 4/17/95 | 4/21/00, 65 FR 21315 | 120-04-1212.
5-40-1640 | Facility and Control Equipment Maintenance or Malfunction | 4/17/95 | 4/21/00, 65 FR 21315 | 120-04-1213.
5-40-1650 | Permits | 4/17/95 | 4/21/00, 65 FR 21315 | 120-04-1214.
Article 13 Emission Standards for Kraft Pulp Mills (Rule 4-13)
5-40-1660 | Applicability and Designation of Affected Facility | 4/17/95 | 4/21/00, 65 FR 21315 | 120-04-1301.
5-40-1670 | Definitions of cross recovery furnace, kraft pulp mill, lime kiln, recovery furnace, smelt dissolving tank | 4/17/95 | 4/21/00, 65 FR 21315 | 120-04-1302 Remaining definitions are federally enforceable as part of the Section 111(d) plan for kraft pulp mills (see, § 62.11610).
5-40-1680 | Standard for Particulate Matter | 4/17/95 | 4/21/00, 65 FR 21315 | 120-04-1303.
5-40-1700 | Control Technology Guidelines | 4/17/95 | 4/21/00, 65 FR 21315 | 120-04-1305.
5-40-1710 | Standard for Visible Emissions | 4/17/95 | 4/21/00, 65 FR 21315 | 120-04-1306.
5-40-1720 | Standard for Fugitive Dust/Emissions | 4/17/95 | 4/21/00, 65 FR 21315 | 120-04-1307.
5-40-1750A. | Compliance | 4/17/95 | 4/21/00, 65 FR 21315 | 120-04-1310A. Note: Sections 5-40-1750B. through D. are federally enforceable as part of the Section 111(d) plan for kraft pulp mills (see, § 62.11610).
5-40-1760 | Test Methods and Procedures | 4/17/95 | 4/21/00, 65 FR 21315 | 120-04-1311.
5-40-1770A. | Monitoring | 4/17/95 | 4/21/00, 65 FR 21315 | 120-04-1312A. Note: Sections 5-40-1770B. and C. are federally enforceable as part of the Section 111(d) plan for kraft pulp mills (see, § 62.11610).
5-40-1780A. | Notification, Records and Reporting | 4/17/95 | 4/21/00, 65 FR 21315 | 120-04-1313A. Note: Sections 5-40-1780B. through D. are federally enforceable as part of the Section 111(d) plan for kraft pulp mills (see, § 62.11610).
5-40-1790 | Registration | 4/17/95 | 4/21/00, 65 FR 21315 | 120-04-1314.
5-40-1800 | Facility and Control Equipment Maintenance or Malfunction | 4/17/95 | 4/21/00, 65 FR 21315 | 120-04-1315.
5-40-1810 | Permits | 4/17/95 | 4/21/00, 65 FR 21315 | 120-04-1316.
Article 14 Emission Standards for Sand and Gravel Processing Operations and Stone Quarrying and Processing Operations (Rule 4-14)
5-40-1820 | Applicability and Designation of Affected Facility | 4/17/95 | 4/21/00, 65 FR 21315 | 120-04-1401.
5-40-1830 | Definitions | 4/17/95 | 4/21/00, 65 FR 21315 | 120-04-1402.
5-40-1840 | Standard for Particulate Matter | 4/17/95 | 4/21/00, 65 FR 21315 | 120-04-1403.
5-40-1850 | Standard for Visible Emissions | 4/17/95 | 4/21/00, 65 FR 21315 | 120-04-1404.
5-40-1860 | Standard for Fugitive Dust/Emissions | 4/17/95 | 4/21/00, 65 FR 21315 | 120-04-1405.
5-40-1890 | Compliance | 4/17/95 | 4/21/00, 65 FR 21315 | 120-04-1408.
5-40-1900 | Test Methods and Procedures | 4/17/95 | 4/21/00, 65 FR 21315 | 120-04-1409.
5-40-1910 | Monitoring | 4/17/95 | 4/21/00, 65 FR 21315 | 120-04-1410.
5-40-1920 | Notification, Records and Reporting | 4/17/95 | 4/21/00, 65 FR 21315 | 120-04-1411.
5-40-1930 | Registration | 4/17/95 | 4/21/00, 65 FR 21315 | 120-04-1412.
5-40-1940 | Facility and Control Equipment Maintenance or Malfunction | 4/17/95 | 4/21/00, 65 FR 21315 | 120-04-1413.
5-40-1950 | Permits | 4/17/95 | 4/21/00, 65 FR 21315 | 120-04-1414.
Article 15 Emission Standards for Coal Preparation Plants (Rule 5-15)
5-40-1960 | Applicability and Designation of Affected Facility | 4/17/95 | 4/21/00, 65 FR 21315 | 120-04-1501.
5-40-1970 | Definitions | 4/17/95 | 4/21/00, 65 FR 21315 | 120-04-1502.
5-40-1980 | Standard for Particulate Matter | 4/17/95 | 4/21/00, 65 FR 21315 | 120-04-1503.
5-40-1990 | Standard for Visible Emissions | 4/17/95 | 4/21/00, 65 FR 21315 | 120-04-1504.
5-40-2000 | Standard for Fugitive Dust/Emissions | 4/17/95 | 4/21/00, 65 FR 21315 | 120-04-1505.
5-40-2030 | Compliance | 4/17/95 | 4/21/00, 65 FR 21315 | 120-04-1508.
5-40-2040 | Test Methods and Procedures | 4/17/95 | 4/21/00, 65 FR 21315 | 120-04-1509.
5-40-2050 | Monitoring | 4/17/95 | 4/21/00, 65 FR 21315 | 120-04-1510.
5-40-2060 | Notification, Records and Reporting | 4/17/95 | 4/21/00, 65 FR 21315 | 120-04-1511.
5-40-2070 | Registration | 4/17/95 | 4/21/00, 65 FR 21315 | 120-04-1512.
5-40-2080 | Facility and Control Equipment Maintenance or Malfunction | 4/17/95 | 4/21/00, 65 FR 21315 | 120-04-1513.
5-40-2090 | Permits | 4/17/95 | 4/21/00, 65 FR 21315 | 120-04-1514.
Article 16 Emission Standards for Portland Cement Plants (Rule 4-16)
5-40-2100 | Applicability and Designation of Affected Facility | 4/17/95 | 4/21/00, 65 FR 21315 | 120-04-1601.
5-40-2110 | Definitions | 4/17/95 | 4/21/00, 65 FR 21315 | 120-04-1602.
5-40-2120 | Standard for Particulate Matter | 4/17/95 | 4/21/00, 65 FR 21315 | 120-04-1603.
5-40-2130 | Standard for Sulfur Dioxide | 4/17/95 | 4/21/00, 65 FR 21315 | 120-04-1604.
5-40-2140 | Standard for Visible Emissions | 4/17/95 | 4/21/00, 65 FR 21315 | 120-04-1605.
5-40-2150 | Standard for Fugitive Dust/Emissions | 4/17/95 | 4/21/00, 65 FR 21315 | 120-04-1606.
5-40-2180 | Compliance | 4/17/95 | 4/21/00, 65 FR 21315 | 120-04-1609.
5-40-2190 | Test Methods and Procedures | 4/17/95 | 4/21/00, 65 FR 21315 | 120-04-1610.
5-40-2200 | Monitoring | 4/17/95 | 4/21/00, 65 FR 21315 | 120-04-1611.
5-40-2210 | Notification, Records and Reporting | 4/17/95 | 4/21/00, 65 FR 21315 | 120-04-1612.
5-40-2220 | Registration | 4/17/95 | 4/21/00, 65 FR 21315 | 120-04-1613.
5-40-2230 | Facility and Control Equipment Maintenance or Malfunction | 4/17/95 | 4/21/00, 65 FR 21315 | 120-04-1614.
5-40-2240 | Permits | 4/17/95 | 4/21/00, 65 FR 21315 | 120-04-1615.
Article 17 Emission Standards for Woodworking Operations (Rule 4-17)
5-40-2250 | Applicability and Designation of Affected Facility | 4/17/95 | 4/21/00, 65 FR 21315 | 120-04-1701.
5-40-2260 | Definitions | 4/17/95 | 4/21/00, 65 FR 21315 | 120-04-1702.
5-40-2270 | Standard for Particulate Matter | 4/17/95 | 4/21/00, 65 FR 21315 | 120-04-1703.
5-40-2280 | Standard for Visible Emissions | 4/17/95 | 4/21/00, 65 FR 21315 | 120-04-1704.
5-40-2290 | Standard for Fugitive Dust/Emissions | 4/17/95 | 4/21/00, 65 FR 21315 | 120-04-1705.
5-40-2320 | Compliance | 4/17/95 | 4/21/00, 65 FR 21315 | 120-04-1708.
5-40-2330 | Test Methods and Procedures | 4/17/95 | 4/21/00, 65 FR 21315 | 120-04-1709.
5-40-2340 | Monitoring | 4/17/95 | 4/21/00, 65 FR 21315 | 120-04-1710.
5-40-2350 | Notification, Records and Reporting | 4/17/95 | 4/21/00, 65 FR 21315 | 120-04-1711.
5-40-2360 | Registration | 4/17/95 | 4/21/00, 65 FR 21315 | 120-04-1712.
5-40-2370 | Facility and Control Equipment Maintenance or Malfunction | 4/17/95 | 4/21/00, 65 FR 21315 | 120-04-1713.
5-40-2380 | Permits | 4/17/95 | 4/21/00, 65 FR 21315 | 120-04-1714.
Article 18 Emission Standards for Primary and Secondary Metal Operations (Rule 4-18)
5-40-2390 | Applicability and Designation of Affected Facility | 4/17/95 | 4/21/00, 65 FR 21315 | 120-04-1801.
5-40-2400 | Definitions | 4/17/95 | 4/21/00, 65 FR 21315 | 120-04-1802.
5-40-2410 | Standard for Particulate Matter | 4/17/95 | 4/21/00, 65 FR 21315 | 120-04-1803.
5-40-2420 | Standard for Sulfur Oxides | 4/17/95 | 4/21/00, 65 FR 21315 | 120-04-1804.
5-40-2430 | Standard for Visible Emissions | 4/17/95 | 4/21/00, 65 FR 21315 | 120-04-1805.
5-40-2440 | Standard for Fugitive Dust/Emissions | 4/17/95 | 4/21/00, 65 FR 21315 | 120-04-1806.
5-40-2470 | Compliance | 4/17/95 | 4/21/00, 65 FR 21315 | 120-04-1809.
5-40-2480 | Test Methods and Procedures | 4/17/95 | 4/21/00, 65 FR 21315 | 120-04-1810.
5-40-2490 | Monitoring | 4/17/95 | 4/21/00, 65 FR 21315 | 120-04-1811.
5-40-2500 | Notification, Records and Reporting | 4/17/95 | 4/21/00, 65 FR 21315 | 120-04-1812.
5-40-2510 | Registration | 4/17/95 | 4/21/00, 65 FR 21315 | 120-04-1813.
5-40-2520 | Facility and Control Equipment Maintenance or Malfunction | 4/17/95 | 4/21/00, 65 FR 21315 | 120-04-1814.
5-40-2530 | Permits | 4/17/95 | 4/21/00, 65 FR 21315 | 120-04-1815.
Article 19 Emission Standards for Lightweight Aggregate Process Operations (Rule 4-19)
5-40-2540 | Applicability and Designation of Affected Facility | 4/17/95 | 4/21/00, 65 FR 21315 | 120-04-1901.
5-40-2550 | Definitions | 4/17/95 | 4/21/00, 65 FR 21315 | 120-04-1902.
5-40-2560 | Standard for Particulate Matter | 4/17/95 | 4/21/00, 65 FR 21315 | 120-04-1903.
5-40-2570 | Standard for Sulfur Oxides | 4/17/95 | 4/21/00, 65 FR 21315 | 120-04-1904.
5-40-2580 | Standard for Visible Emissions | 4/17/95 | 4/21/00, 65 FR 21315 | 120-04-1905.
5-40-2590 | Standard for Fugitive Dust/Emissions | 4/17/95 | 4/21/00, 65 FR 21315 | 120-04-1906.
5-40-2620 | Compliance | 4/17/95 | 4/21/00, 65 FR 21315 | 120-04-1909.
5-40-2630 | Test Methods and Procedures | 4/17/95 | 4/21/00, 65 FR 21315 | 120-04-1910.
5-40-2640 | Monitoring | 4/17/95 | 4/21/00, 65 FR 21315 | 120-04-1911.
5-40-2650 | Notification, Records and Reporting | 4/17/95 | 4/21/00, 65 FR 21315 | 120-04-1912.
5-40-2660 | Registration | 4/17/95 | 4/21/00, 65 FR 21315 | 120-04-1913.
5-40-2670 | Facility and Control Equipment Maintenance or Malfunction | 4/17/95 | 4/21/00, 65 FR 21315 | 120-04-1914.
5-40-2680 | Permits | 4/17/95 | 4/21/00, 65 FR 21315 | 120-04-1915.
Article 20 Emission Standards for Feed Manufacturing Operations (Rule 4-20)
5-40-2690 | Applicability and Designation of Affected Facility | 4/17/95 | 4/21/00, 65 FR 21315 | 120-04-2001.
5-40-2700 | Definitions | 4/17/95 | 4/21/00, 65 FR 21315 | 120-04-2002.
5-40-2710 | Standard for Particulate Matter | 4/17/95 | 4/21/00, 65 FR 21315 | 120-04-2003.
5-40-2720 | Standard for Visible Emissions | 4/17/95 | 4/21/00, 65 FR 21315 | 120-04-2004.
5-40-2730 | Standard for Fugitive Dust/Emissions | 4/17/95 | 4/21/00, 65 FR 21315 | 120-04-2005.
5-40-2760 | Compliance | 4/17/95 | 4/21/00, 65 FR 21315 | 120-04-2008.
5-40-2770 | Test Methods and Procedures | 4/17/95 | 4/21/00, 65 FR 21315 | 120-04-2009.
5-40-2780 | Monitoring | 4/17/95 | 4/21/00, 65 FR 21315 | 120-04-2010.
5-40-2790 | Notification, Records and Reporting | 4/17/95 | 4/21/00, 65 FR 21315 | 120-04-2011.
5-40-2800 | Registration | 4/17/95 | 4/21/00, 65 FR 21315 | 120-04-2012.
5-40-2810 | Facility and Control Equipment Maintenance or Malfunction | 4/17/95 | 4/21/00, 65 FR 21315 | 120-04-2013.
5-40-2820 | Permits | 4/17/95 | 4/21/00, 65 FR 21315 | 120-04-2014.
Article 21 Emission Standards for Sulfuric Acid Production Plants (Rule 4-21)
5-40-2830 | Applicability and Designation of Affected Facility | 4/17/95 | 4/21/00, 65 FR 21315 | 120-04-2101.
5-40-2840 | Definitions | 4/17/95 | 4/21/00, 65 FR 21315 | 120-04-2102.
5-40-2850 | Standard for Sulfur Dioxide | 4/17/95 | 4/21/00, 65 FR 21315 | 120-04-2103.
5-40-2870 | Standard for Visible Emissions | 4/17/95 | 4/21/00, 65 FR 21315 | 120-04-2105.
5-40-2880 | Standard for Fugitive Dust/Emissions | 4/17/95 | 4/21/00, 65 FR 21315 | 120-04-2106.
5-40-2910 | Compliance | 4/17/95 | 4/21/00, 65 FR 21315 | 120-04-2109.
5-40-2920 | Test Methods and Procedures | 4/17/95 | 4/21/00, 65 FR 21315 | 120-04-2110.
5-40-2930 | Monitoring | 4/17/95 | 4/21/00, 65 FR 21315 | 120-04-2111.
5-40-2940 | Notification, Records and Reporting | 4/17/95 | 4/21/00, 65 FR 21315 | 120-04-2112.
5-40-2950 | Registration | 4/17/95 | 4/21/00, 65 FR 21315 | 120-04-2113.
5-40-2960 | Facility and Control Equipment Maintenance or Malfunction | 4/17/95 | 4/21/00, 65 FR 21315 | 120-04-2114.
5-40-2970 | Permits | 4/17/95 | 4/21/00, 65 FR 21315 | 120-04-2115.
Article 22 Emission Standards for Sulfur Recovery Operations (Rule 4-22)
5-40-2980 | Applicability and Designation of Affected Facility | 4/17/95 | 4/21/00, 65 FR 21315 | 120-04-2201.
5-40-2990 | Definitions | 4/17/95 | 4/21/00, 65 FR 21315 | 120-04-2202.
5-40-3000 | Standard for Sulfur Dioxide | 4/17/95 | 4/21/00, 65 FR 21315 | 120-04-2203.
5-40-3010 | Standard for Visible Emissions | 4/17/95 | 4/21/00, 65 FR 21315 | 120-04-2204.
5-40-3020 | Standard for Fugitive Dust/Emissions | 4/17/95 | 4/21/00, 65 FR 21315 | 120-04-2205.
5-40-3050 | Compliance | 4/17/95 | 4/21/00, 65 FR 21315 | 120-04-2208.
5-40-3060 | Test Methods and Procedures | 4/17/95 | 4/21/00, 65 FR 21315 | 120-04-2209.
5-40-3070 | Monitoring | 4/17/95 | 4/21/00, 65 FR 21315 | 120-04-2210.
5-40-3080 | Notification, Records and Reporting | 4/17/95 | 4/21/00, 65 FR 21315 | 120-04-2211.
5-40-3090 | Registration | 4/17/95 | 4/21/00, 65 FR 21315 | 120-04-2212.
5-40-3100 | Facility and Control Equipment Maintenance or Malfunction | 4/17/95 | 4/21/00, 65 FR 21315 | 120-04-2213.
5-40-3110 | Permits | 4/17/95 | 4/21/00, 65 FR 21315 | 120-04-2214.
Article 23 Emission Standards for Nitric Acid Production Units (Rule 4-23)
5-40-3120 | Applicability and Designation of Affected Facility | 4/17/95 | 4/21/00, 65 FR 21315 | 120-04-2301.
5-40-3130 | Definitions | 4/17/95 | 4/21/00, 65 FR 21315 | 120-04-2302.
5-40-3140 | Standard for Nitrogen Oxides | 4/17/95 | 4/21/00, 65 FR 21315 | 120-04-2303.
5-40-3150 | Standard for Visible Emissions | 4/17/95 | 4/21/00, 65 FR 21315 | 120-04-2304.
5-40-3160 | Standard for Fugitive Dust/Emissions | 4/17/95 | 4/21/00, 65 FR 21315 | 120-04-2305.
5-40-3190 | Compliance | 4/17/95 | 4/21/00, 65 FR 21315 | 120-04-2308.
5-40-3200 | Test Methods and Procedures | 4/17/95 | 4/21/00, 65 FR 21315 | 120-04-2309.
5-40-3210 | Monitoring | 4/17/95 | 4/21/00, 65 FR 21315 | 120-04-2310.
5-40-3220 | Notification, Records and Reporting | 4/17/95 | 4/21/00, 65 FR 21315 | 120-04-2311.
5-40-3230 | Registration | 4/17/95 | 4/21/00, 65 FR 21315 | 120-04-2312.
5-40-3240 | Facility and Control Equipment Maintenance or Malfunction | 4/17/95 | 4/21/00, 65 FR 21315 | 120-04-2313.
5-40-3250 | Permits | 4/17/95 | 4/21/00, 65 FR 21315 | 120-04-2314.
Article 24 Emission Standards for Solvent Metal Cleaning Operations Using Non-Halogenated Solvents (Rule 4-24)
5-40-3260 | Applicability and Designation of Affected Facility | 3/24/04 | 5/17/05, 70 FR 28215
5-40-3270 | Definitions | 4/1/97 | 11/3/99, 64 FR 59635
5-40-3280 | Standard for Volatile Organic Compounds | 4/1/97 | 11/3/99, 64 FR 59635
5-40-3290 | Control Technology Guidelines | 4/1/97 | 11/3/99, 64 FR 59635
5-40-3300 | Standard for Visible Emissions | 4/1/97 | 11/3/99, 64 FR 59635
5-40-3310 | Standard for Fugitive Dust/Emissions | 4/1/97 | 11/3/99, 64 FR 59635
5-40-3340 | Compliance | 4/1/97 | 11/3/99, 64 FR 59635
5-40-3350 | Test Methods and Procedures | 4/1/97 | 11/3/99, 64 FR 59635
5-40-3360 | Monitoring | 4/1/97 | 11/3/99, 64 FR 59635
5-40-3370 | Notification, Records and Reporting | 4/1/97 | 11/3/99, 64 FR 59635
5-40-3380 | Registration | 4/1/97 | 11/3/99, 64 FR 59635
5-40-3390 | Facility and Control Equipment Maintenance or Malfunction | 4/1/97 | 11/3/99, 64 FR 59635
5-40-3400 | Permits | 4/1/97 | 11/3/99, 64 FR 59635
Article 25 Emission Standards for Volatile Organic Compound Storage and Transfer Operations (Rule 4-25)
5-40-3410 | Applicability and Designation of Affected Facility | 4/17/95 | 4/21/00, 65 FR 21315 | 120-04-2501.
5-40-3420 | Definitions | 4/17/95 | 4/21/00, 65 FR 21315 | 120-04-2502.
5-40-3430 | Standard for Volatile Organic Compounds | 4/17/95 | 4/21/00, 65 FR 21315 | 120-04-2503.
5-40-3440 | Control Technology Guidelines | 4/17/95 | 4/21/00, 65 FR 21315 | 120-04-2504.
5-40-3450 | Standard for Visible Emissions | 4/17/95 | 4/21/00, 65 FR 21315 | 120-04-2505.
5-40-3460 | Standard for Fugitive Dust/Emissions | 4/17/95 | 4/21/00, 65 FR 21315 | 120-04-2506.
5-40-3490 | Compliance | 4/17/95 | 4/21/00, 65 FR 21315 | 120-04-2509.
5-40-3500 | Test Methods and Procedures | 4/17/95 | 4/21/00, 65 FR 21315 | 120-04-2510.
5-40-3510 | Monitoring | 4/17/95 | 4/21/00, 65 FR 21315 | 120-04-2511.
5-40-3520 | Notification, Records and Reporting | 4/17/95 | 4/21/00, 65 FR 21315 | 120-04-2512.
5-40-3530 | Registration | 4/17/95 | 4/21/00, 65 FR 21315 | 120-04-2513.
5-40-3540 | Facility and Control Equipment Maintenance or Malfunction | 4/17/95 | 4/21/00, 65 FR 21315 | 120-04-2514.
5-40-3550 | Permits | 4/17/95 | 4/21/00, 65 FR 21315 | 120-04-2515.
Article 26 Emission Standards for Large Coating Application Systems (Rule 4-26)
5-40-3560 | Applicability and Designation of Affected Facility | 4/17/95 | 4/21/00, 65 FR 21315 | 120-04-2601.
5-40-3570 | Definitions | 4/17/95 | 4/21/00, 65 FR 21315 | 120-04-2602.
5-40-3580 | Standard for Volatile Organic Compounds | 4/17/95 | 4/21/00, 65 FR 21315 | 120-04-2603.
5-40-3590 | Control Technology Guidelines | 4/17/95 | 4/21/00, 65 FR 21315 | 120-04-2604.
5-40-3600 | Standard for Visible Emissions | 4/17/95 | 4/21/00, 65 FR 21315 | 120-04-2605.
5-40-3610 | Standard for Fugitive Dust/Emissions | 4/17/95 | 4/21/00, 65 FR 21315 | 120-04-2606.
5-40-3640 | Compliance | 4/17/95 | 4/21/00, 65 FR 21315 | 120-04-2609.
5-40-3650 | Test Methods and Procedures | 4/17/95 | 4/21/00, 65 FR 21315 | 120-04-2610.
5-40-3660 | Monitoring | 4/17/95 | 4/21/00, 65 FR 21315 | 120-04-2611.
5-40-3670 | Notification, Records and Reporting | 4/17/95 | 4/21/00, 65 FR 21315 | 120-04-2612.
5-40-3680 | Registration | 4/17/95 | 4/21/00, 65 FR 21315 | 120-04-2613.
5-40-3690 | Facility and Control Equipment Maintenance or Malfunction | 4/17/95 | 4/21/00, 65 FR 21315 | 120-04-2614.
5-40-3700 | Permits | 4/17/95 | 4/21/00, 65 FR 21315 | 120-04-2615.
Article 27 Emission Standards for Magnet Wire Coating Application Systems (Rule 4-27)
5-40-3710 | Applicability and Designation of Affected Facility | 4/17/95 | 4/21/00, 65 FR 21315 | 120-04-2701.
5-40-3720 | Definitions | 4/17/95 | 4/21/00, 65 FR 21315 | 120-04-2702.
5-40-3730 | Standard for Volatile Organic Compounds | 4/17/95 | 4/21/00, 65 FR 21315 | 120-04-2703.
5-40-3740 | Control Technology Guidelines | 4/17/95 | 4/21/00, 65 FR 21315 | 120-04-2704.
5-40-3750 | Standard for Visible Emissions | 4/17/95 | 4/21/00, 65 FR 21315 | 120-04-2705.
5-40-3760 | Standard for Fugitive Dust/Emissions | 4/17/95 | 4/21/00, 65 FR 21315 | 120-04-2706.
5-40-3790 | Compliance | 4/17/95 | 4/21/00, 65 FR 21315 | 120-04-2709.
5-40-3800 | Test Methods and Procedures | 4/17/95 | 4/21/00, 65 FR 21315 | 120-04-2710.
5-40-3810 | Monitoring | 4/17/95 | 4/21/00, 65 FR 21315 | 120-04-2711.
5-40-3820 | Notification, Records and Reporting | 4/17/95 | 4/21/00, 65 FR 21315 | 120-04-2712.
5-40-3830 | Registration | 4/17/95 | 4/21/00, 65 FR 21315 | 120-04-2713.
5-40-3840 | Facility and Control Equipment Maintenance or Malfunction | 4/17/95 | 4/21/00, 65 FR 21315 | 120-04-2714.
5-40-3850 | Permits | 4/17/95 | 4/21/00, 65 FR 21315 | 120-04-2715.
Article 28 Emission Standards for Automobile and Light Duty Truck Coating Application Systems (Rule 4-28)
5-40-3860 | Applicability and Designation of Affected Facility | 4/17/95 | 4/21/00, 65 FR 21315 | 120-04-2801.
5-40-3870 | Definitions | 4/17/95 | 4/21/00, 65 FR 21315 | 120-04-2802
5-40-3880 | Standard for Volatile Organic Compounds | 4/17/95 | 4/21/00, 65 FR 21315 | 120-04-2803.
5-40-3890 | Control Technology Guidelines | 4/17/95 | 4/21/00, 65 FR 21315 | 120-04-2804.
5-40-3900 | Standard for Visible Emissions | 4/17/95 | 4/21/00, 65 FR 21315 | 120-04-2805.
5-40-3910 | Standard for Fugitive Dust/Emissions | 4/17/95 | 4/21/00, 65 FR 21315 | 120-04-2806.
5-40-3940 | Compliance | 4/17/95 | 4/21/00, 65 FR 21315 | 120-04-2809.
5-40-3950 | Test Methods and Procedures | 4/17/95 | 4/21/00, 65 FR 21315 | 120-04-2810.
5-40-3960 | Monitoring | 4/17/95 | 4/21/00, 65 FR 21315 | 120-04-2811.
5-40-3970 | Notification, Records and Reporting | 4/17/95 | 4/21/00, 65 FR 21315 | 120-04-2812.
5-40-3980 | Registration | 4/17/95 | 4/21/00, 65 FR 21315 | 120-04-2813.
5-40-3990 | Facility and Control Equipment Maintenance or Malfunction | 4/17/95 | 4/21/00, 65 FR 21315 | 120-04-2814.
5-40-4000 | Permits | 4/17/95 | 4/21/00, 65 FR 21315 | 120-04-2815.
Article 29 Emission Standards for Can Coating Application Systems (Rule 4-29)
5-40-4010 | Applicability and Designation Affected Facility | 4/17/95 | 4/21/00, 65 FR 21315 | 120-04-2901.
5-40-4020 | Definitions | 4/17/95 | 4/21/00, 65 FR 21315 | 120-04-2902.
5-40-4030 | Standard for Volatile Organic Compounds | 4/17/95 | 4/21/00, 65 FR 21315 | 120-04-2903.
5-40-4040 | Control Technology Guidelines | 4/17/95 | 4/21/00, 65 FR 21315 | 120-04-2904.
5-40-4050 | Standard for Visible Emissions | 4/17/95 | 4/21/00, 65 FR 21315 | 120-04-2905.
5-40-4060 | Standard for Fugitive Dust/Emissions | 4/17/95 | 4/21/00, 65 FR 21315 | 120-04-2906.
5-40-4090 | Compliance | 4/17/95 | 4/21/00, 65 FR 21315 | 120-04-2909.
5-40-4100 | Test Methods and Procedures | 4/17/95 | 4/21/00, 65 FR 21315 | 120-04-2910.
5-40-4110 | Monitoring | 4/17/95 | 4/21/00, 65 FR 21315 | 120-04-2911.
5-40-4120 | Notification, Records and Reporting | 4/17/95 | 4/21/00, 65 FR 21315 | 120-04-2912.
5-40-4130 | Registration | 4/17/95 | 4/21/00, 65 FR 21315 | 120-04-2913.
5-40-4140 | Facility and Control Equipment Maintenance or Malfunction | 4/17/95 | 4/21/00, 65 FR 21315 | 120-04-2914.
5-40-4150 | Permits | 4/17/95 | 4/21/00, 65 FR 21315 | 120-04-2915.
Article 30 Emission Standards for Metal Coil Coating Application Systems (Rule 4-30)
5-40-4160 | Applicability and Designation of Affected Facility | 4/17/95 | 4/21/00, 65 FR 21315 | 120-04-3001.
5-40-4170 | Definitions | 4/17/95 | 4/21/00, 65 FR 21315 | 120-04-3002.
5-40-4180 | Standard for Volatile Organic Compounds | 4/17/95 | 4/21/00, 65 FR 21315 | 120-04-3003.
5-40-4190 | Control Technology Guidelines | 4/17/95 | 4/21/00, 65 FR 21315 | 120-04-3004.
5-40-4200 | Standard for Visible Emissions | 4/17/95 | 4/21/00, 65 FR 21315 | 120-04-3005.
5-40-4210 | Standard for Fugitive Dust/Emissions | 4/17/95 | 4/21/00, 65 FR 21315 | 120-04-3006.
5-40-4240 | Compliance | 4/17/95 | 4/21/00, 65 FR 21315 | 120-04-3009.
5-40-4250 | Test Methods and Procedures | 4/17/95 | 4/21/00, 65 FR 21315 | 120-04-3010.
5-40-4260 | Monitoring | 4/17/95 | 4/21/00, 65 FR 21315 | 120-04-3011.
5-40-4270 | Notification, Records and Reporting | 4/17/95 | 4/21/00, 65 FR 21315 | 120-04-3012.
5-40-4280 | Registration | 4/17/95 | 4/21/00, 65 FR 21315 | 120-04-3013.
5-40-4290 | Facility and Control Equipment Maintenance or Malfunction | 4/17/95 | 4/21/00, 65 FR 21315 | 120-04-3014.
5-40-4300 | Permits | 4/17/95 | 4/21/00, 65 FR 21315 | 120-04-3015.
Article 31 Emission Standards for Paper and Fabric Coating Application Systems (Rule 4-31)
5-40-4310 | Applicability and Designation of Affected Facility | 4/17/95 | 4/21/00, 65 FR 21315 | 120-04-3101.
5-40-4320 | Definitions | 4/17/95 | 4/21/00, 65 FR 21315 | 120-04-3102.
5-40-4330 | Standard for Volatile Organic Compounds | 4/17/95 | 4/21/00, 65 FR 21315 | 120-04-3103.
5-40-4340 | Control Technology Guidelines | 4/17/95 | 4/21/00, 65 FR 21315 | 120-04-3104.
5-40-4350 | Standard for Visible Emissions | 4/17/95 | 4/21/00, 65 FR 21315 | 120-04-3105.
5-40-4360 | Standard for Fugitive Dust/Emissions | 4/17/95 | 4/21/00, 65 FR 21315 | 120-04-3106.
5-40-4390 | Compliance | 4/17/95 | 4/21/00, 65 FR 21315 | 120-04-3109.
5-40-4400 | Test Methods and Procedures | 4/17/95 | 4/21/00, 65 FR 21315 | 120-04-3110.
5-40-4410 | Monitoring | 4/17/95 | 4/21/00, 65 FR 21315 | 120-04-3111.
5-40-4420 | Notification, Records and Reporting | 4/17/95 | 4/21/00, 65 FR 21315 | 120-04-3112.
5-40-4430 | Registration | 4/17/95 | 4/21/00, 65 FR 21315 | 120-04-3113.
5-40-4440 | Facility and Control Equipment Maintenance or Malfunction | 4/17/95 | 4/21/00, 65 FR 21315 | 120-04-3114.
5-40-4450 | Permits | 4/17/95 | 4/21/00, 65 FR 21315 | 120-04-3115.
Article 32 Emission Standards for Vinyl Coating Application Systems (Rule 4-32)
5-40-4460 | Applicability and Designation of Affected Facility | 4/17/95 | 4/21/00, 65 FR 21315 | 120-04-3201.
5-40-4470 | Definitions | 4/17/95 | 4/21/00, 65 FR 21315 | 120-04-3202.
5-40-4480 | Standard for Volatile Organic Compounds | 4/17/95 | 4/21/00, 65 FR 21315 | 120-04-3203.
5-40-4490 | Control Technology Guidelines | 4/17/95 | 4/21/00, 65 FR 21315 | 120-04-3204.
5-40-4500 | Standard for Visible Emissions | 4/17/95 | 4/21/00, 65 FR 21315 | 120-04-3205.
5-40-4510 | Standard for Fugitive Dust/Emissions | 4/17/95 | 4/21/00, 65 FR 21315 | 120-04-3206.
5-40-4540 | Compliance | 4/17/95 | 4/21/00, 65 FR 21315 | 120-04-3209.
5-40-4550 | Test Methods and Procedures | 4/17/95 | 4/21/00, 65 FR 21315 | 120-04-3210.
5-40-4560 | Monitoring | 4/17/95 | 4/21/00, 65 FR 21315 | 120-04-3211.
5-40-4570 | Notification, Records and Reporting | 4/17/95 | 4/21/00, 65 FR 21315 | 120-04-3212.
5-40-4580 | Registration | 4/17/95 | 4/21/00, 65 FR 21315 | 120-04-3213.
5-40-4590 | Facility and Control Equipment Maintenance or Malfunction | 4/17/95 | 4/21/00, 65 FR 21315 | 120-04-3214.
5-40-4600 | Permits | 4/17/95 | 4/21/00, 65 FR 21315 | 120-04-3215.
Article 33 Emission Standards for Metal Furniture Coating Application Systems (Rule 4-33)
5-40-4610 | Applicability and Designation of Affected Facility | 4/17/95 | 4/21/00, 65 FR 21315 | 120-04-3301.
5-40-4620 | Definitions | 4/17/95 | 4/21/00, 65 FR 21315 | 120-04-3302.
5-40-4630 | Standard for Volatile Organic Compounds | 4/17/95 | 4/21/00, 65 FR 21315 | 120-04-3303.
5-40-4640 | Control Technology Guidelines | 4/17/95 | 4/21/00, 65 FR 21315 | 120-04-3304.
5-40-4650 | Standard for Visible Emissions | 4/17/95 | 4/21/00, 65 FR 21315 | 120-04-3305.
5-40-4660 | Standard for Fugitive Dust/Emissions | 4/17/95 | 4/21/00, 65 FR 21315 | 120-04-3306.
5-40-4690 | Compliance | 4/17/95 | 4/21/00, 65 FR 21315 | 120-04-3309.
5-40-4700 | Test Methods and Procedures | 4/17/95 | 4/21/00, 65 FR 21315 | 120-04-3310.
5-40-4710 | Monitoring | 4/17/95 | 4/21/00, 65 FR 21315 | 120-04-3311.
5-40-4720 | Notification, Records and Reporting | 4/17/95 | 4/21/00, 65 FR 21315 | 120-04-3312.
5-40-4730 | Registration | 4/17/95 | 4/21/00, 65 FR 21315 | 120-04-3313.
5-40-4740 | Facility and Control Equipment Maintenance or Malfunction | 4/17/95 | 4/21/00, 65 FR 21315 | 120-04-3314.
5-40-4750 | Permits | 4/17/95 | 4/21/00, 65 FR 21315 | 120-04-3315.
Article 34 Emission Standards for Miscellaneous Metal Parts and Products Coating Application Systems (Rule 4-34)
5-40-4760 | Applicability and Designation of Affected Facility | 4/17/95 | 4/21/00, 65 FR 21315 | 120-04-3401.
5-40-4770 | Definitions | 4/17/95 | 4/21/00, 65 FR 21315 | 120-04-3402.
5-40-4780 | Standard for Volatile Organic Compounds | 4/17/95 | 4/21/00, 65 FR 21315 | 120-04-3403.
5-40-4790 | Control Technology Guidelines | 4/17/95 | 4/21/00, 65 FR 21315 | 120-04-3404.
5-40-4800 | Standard for Visible Emissions | 4/17/95 | 4/21/00, 65 FR 21315 | 120-04-3405.
5-40-4810 | Standard for Fugitive Dust/Emissions | 4/17/95 | 4/21/00, 65 FR 21315 | 120-04-3406.
5-40-4840 | Compliance | 4/17/95 | 4/21/00, 65 FR 21315 | 120-04-3409.
5-40-4850 | Test Methods and Procedures | 4/17/95 | 4/21/00, 65 FR 21315 | 120-04-3410.
5-40-4860 | Monitoring | 4/17/95 | 4/21/00, 65 FR 21315 | 120-04-3411.
5-40-4870 | Notification, Records and Reporting | 4/17/95 | 4/21/00, 65 FR 21315 | 120-04-3412.
5-40-4880 | Registration | 4/17/95 | 4/21/00, 65 FR 21315 | 120-04-3413.
5-40-4890 | Facility and Control Equipment Maintenance or Malfunction | 4/17/95 | 4/21/00, 65 FR 21315 | 120-04-3414.
5-40-4900 | Permits | 4/17/95 | 4/21/00, 65 FR 21315 | 120-04-3415.
Article 35 Emission Standards for Flatwood Paneling Coating Application Systems (Rule 4-35)
5-40-4910 | Applicability and Designation of Affected Facility | 4/17/95 | 4/21/00, 65 FR 21315 | 120-04-3501.
5-40-4920 | Definitions | 4/17/95 | 4/21/00, 65 FR 21315 | 120-04-3502.
5-40-4930 | Standard for Volatile Organic Compounds | 4/17/95 | 4/21/00, 65 FR 21315 | 120-04-3503.
5-40-4940 | Control Technology Guidelines | 4/17/95 | 4/21/00, 65 FR 21315 | 120-04-3504.
5-40-4950 | Standard for Visible Emissions | 4/17/95 | 4/21/00, 65 FR 21315 | 120-04-3505.
5-40-4960 | Standard for Fugitive Dust/Emissions | 4/17/95 | 4/21/00, 65 FR 21315 | 120-04-3506.
5-40-4990 | Compliance | 4/17/95 | 4/21/00, 65 FR 21315 | 120-04-3509.
5-40-5000 | Test Methods and Procedures | 4/17/95 | 4/21/00, 65 FR 21315 | 120-04-3510.
5-40-5010 | Monitoring | 4/17/95 | 4/21/00, 65 FR 21315 | 120-04-3511.
5-40-5020 | Notification, Records and Reporting | 4/17/95 | 4/21/00, 65 FR 21315 | 120-04-3512.
5-40-5030 | Registration | 4/17/95 | 4/21/00, 65 FR 21315 | 120-04-3513.
5-40-5040 | Facility and Control Equipment Maintenance or Malfunction | 4/17/95 | 4/21/00, 65 FR 21315 | 120-04-3514.
5-40-5050 | Permits | 4/17/95 | 4/21/00, 65 FR 21315 | 120-04-3515.
Article 36 Flexographic, Packaging Rotogravure, and Publication Rotogravure Printing Lines (Rule 4-36)
5-40-5060 | Applicability and Designation of Affected Facility | 4/1/96 | 3/12/97, 62 FR 11334 | § 52.2465(c)(113)(i)(B)(4).
5-40-5070 | Definitions | 4/1/96 | 3/12/97, 62 FR 11334
5-40-5080 | Standard for Volatile Organic Compounds | 4/1/96 | 3/12/97, 62 FR 11334
5-40-5090 | Standard for Visible Emissions | 4/1/96 | 3/12/97, 62 FR 11334
5-40-5100 | Standard for Fugitive Dust/Emissions | 4/1/96 | 3/12/97, 62 FR 11334
5-40-5130 | Compliance | 4/1/96 | 3/12/97, 62 FR 11334
5-40-5140 | Test Methods and Procedures | 4/1/96 | 3/12/97, 62 FR 11334
5-40-5150 | Monitoring | 4/1/96 | 3/12/97, 62 FR 11334
5-40-5160 | Notification, Records and Reporting | 4/1/96 | 3/12/97, 62 FR 11334
5-40-5170 | Registration | 4/1/96 | 3/12/97, 62 FR 11334
5-40-5180 | Facility and Control Equipment Maintenance or Malfunction | 4/1/96 | 3/12/97, 62 FR 11334
5-40-5190 | Permits | 4/1/96 | 3/12/97, 62 FR 11334
Article 37 Emission Standards for Petroleum Liquid Storage and Transfer Operations (Rule 4-37)
5-40-5200 | Applicability and Designation of Affected Facility | 3/24/04 | 4/27/05, 70 FR 21625
5-40-5210 | Definitions | 4/17/95 | 4/21/00, 65 FR 21315 | 120-04-3702.
5-40-5220 | Standard for Volatile Organic Compounds | 3/24/04 | 4/27/05, 70 FR 21625
5-40-5230 | Control Technology Guidelines | 4/17/95 | 4/21/00, 65 FR 21315 | 120-04-3704.
5-40-5240 | Standard for Visible Emissions | 4/17/95 | 4/21/00, 65 FR 21315 | 120-04-3705.
5-40-5250 | Standard for Fugitive Dust/Emissions | 4/17/95 | 4/21/00, 65 FR 21315 | 120-04-3706.
5-40-5280 | Compliance | 4/17/95 | 4/21/00, 65 FR 21315 | 120-04-3709.
5-40-5290 | Test Methods and Procedures | 4/17/95 | 4/21/00, 65 FR 21315 | 120-04-3710.
5-40-5300 | Monitoring | 4/17/95 | 4/21/00, 65 FR 21315 | 120-04-3711.
5-40-5310 | Notification, Records and Reporting | 4/17/95 | 4/21/00, 65 FR 21315 | 120-04-3712.
5-40-5320 | Registration | 4/17/95 | 4/21/00, 65 FR 21315 | 120-04-3713.
5-40-5330 | Facility and Control Equipment Maintenance or Malfunction | 4/17/95 | 4/21/00, 65 FR 21315 | 120-04-3714.
5-40-5340 | Permits | 4/17/95 | 4/21/00, 65 FR 21315 | 120-04-3715.
Article 39 Emission Standards for Asphalt Paving Operations (Rule 4-39)
5-40-5490 | Applicability and Designation of Affected Facility | 4/17/95 | 4/21/00, 65 FR 21315 | 120-04-3901.
5-40-5500 | Definitions | 4/17/95 | 4/21/00, 65 FR 21315 | 120-04-3902.
5-40-5510 | Standard for Volatile Organic Compounds | 4/17/95 | 4/21/00, 65 FR 21315 | 120-04-3903.
5-40-5520 | Standard for Visible Emissions | 4/17/95 | 4/21/00, 65 FR 21315 | 120-04-3904.
5-40-5530 | Standard for Fugitive Dust/Emissions | 4/17/95 | 4/21/00, 65 FR 21315 | 120-04-3905.
5-40-5560 | Compliance | 4/17/95 | 4/21/00, 65 FR 21315 | 120-04-3908.
5-40-5570 | Test Methods and Procedures | 4/17/95 | 4/21/00, 65 FR 21315 | 120-04-3909.
5-40-5580 | Monitoring | 4/17/95 | 4/21/00, 65 FR 21315 | 120-04-3910.
5-40-5590 | Notification, Records and Reporting | 4/17/95 | 4/21/00, 65 FR 21315 | 120-04-3911.
Article 40 Emission Standards for Open Burning (Rule 4-40)
5-40-5600 | Applicability | 4/1/96 | 3/12/97, 62 FR 11332 | Provisions of Article 40 are applicable only in the Northern Va and Richmond Emissions Control Areas as defined in 9 VAC 5-20-206.
5-40-5610 | Definitions of “refuse”, “household refuse”, “clean burning waste”, “landfill”, “local landfill”, “sanitary landfill”, “special incineration devise”; | 4/1/96 | 3/12/97, 62 FR 11332
5-40-5610 | All definitions not listed above | 4/17/95 | 4/21/00, 65 FR 21315 | 120-04-4002.
5-40-5620 | Open Burning Prohibitions | 4/1/96 | 3/12/97, 62 FR 11332
5-40-5630 | Permissible Open Burning | 4/1/96 | 3/12/97, 62 FR 11332
5-40-5631 | Forest Management Agricultural Practices | 7/1/97 | 3/12/97, 62 FR 11332 | Former Appendix D, effective 4/1/96.
Article 41 Emission Standards for Mobile Sources (Rule 4-41)
5-40-5650 | Applicability and Designation of Affected Facility | 4/17/95 | 4/21/00, 65 FR 21315 | 120-04-4101.
5-40-5660 | Definitions | 4/17/95 | 4/21/00, 65 FR 21315 | 120-04-4102.
5-40-5670 | Motor Vehicles | 4/17/95 | 4/21/00, 65 FR 21315 | 120-04-4103.
5-40-5680 | Other Mobile Sources | 4/17/95 | 4/21/00, 65 FR 21315 | 120-04-4104.
5-40-5690 | Export/Import of Motor Vehicles | 4/17/95 | 4/21/00, 65 FR 21315 | 120-04-4105.
Article 42 Emissions Standards for Portable Fuel Container Spillage in the Northern Virginia Volatile Organic Compound Emissions Control Area (Rule 4-42)
5-40-5700 | Applicability | 3/24/2004 | 6/8/04, 69 FR 31893
5-40-5710 | Definitions | 3/24/2004 | 6/8/04, 69 FR 31893
5-40-5720 | Standard for volatile organic compounds | 3/24/2004 | 6/8/04, 69 FR 31893
5-40-5730 | Administrative requirements | 3/24/2004 | 6/8/04, 69 FR 31893
5-40-5740 | Compliance | 3/24/2004 | 6/8/04, 69 FR 31893
5-40-5750 | Compliance Schedules | 3/24/2004 | 6/8/04, 69 FR 31893
5-40-5760 | Test methods and procedures | 3/24/2004 | 6/8/04, 69 FR 31893
5-40-5770 | Notification, records and reporting | 3/24/2004 | 6/8/04, 69 FR 31893
Article 43 Municipal Solid Waste Landfills (Rule 4-43)
5-40-5800 | Applicability and Designation of Affected Facility | 1/29/04 | 12/29/04, 69 FR 77900
5-40-5810 | Definitions | 1/29/04 | 12/29/04, 69 FR 77900
5-40-5820 | Standards for Air Emissions | 1/29/04 | 12/29/04, 69 FR 77900
5-40-5822 | Operational standards for collection and control systems | 1/29/04 | 12/29/04, 69 FR 77900
5-40-5824 | Specifications for active collection systems | 1/29/04 | 12/29/04, 69 FR 77900
5-40-5850 | Compliance | 1/29/04 | 12/29/04, 69 FR 77900
5-40-5855 | Compliance schedule | 1/29/04 | 12/29/04, 69 FR 77900
5-40-5860 | Test methods and procedures | 1/29/04 | 12/29/04, 69 FR 77900
5-40-5870 | Monitoring | 1/29/04 | 12/29/04, 69 FR 77900
5-40-5880 | Reporting | 1/29/04 | 12/29/04, 69 FR 77900
5-40-5890 | Recordkeeping | 1/29/04 | 12/29/04, 69 FR 77900
5-40-5900 | Registration | 1/29/04 | 12/29/04, 69 FR 77900
5-40-5910 | Facility and control equipment maintenance or malfunction | 1/29/04 | 12/29/04, 69 FR 77900
5-40-5920 | Permits | 1/29/04 | 12/29/04, 69 FR 77900
Article 45 Emission Standards for Lithographic Printing Processes (Rule 4-45)
5-40-7800 | Applicability and Designation of Affected Facility | 4/1/96 | 3/12/97, 62 FR 11334
5-40-7810 | Definitions of “alcohol”, “cleaning solution”, “fountain solution”, “lithographic printing”, “printing”, “printing process” | 4/1/96 | 3/12/97, 62 FR 11334
5-40-7820 | Standard for Volatile Organic Compounds | 4/1/96 | 3/12/97, 62 FR 11334
5-40-7840 | Standard for Visible Emissions | 4/1/96 | 3/12/97, 62 FR 11334
5-40-7850 | Standard for Fugitive Dust Emissions | 4/1/96 | 3/12/97, 62 FR 11334
5-40-7880 | Compliance | 4/1/96 | 3/12/97, 62 FR 11334
5-40-7890 | Test Methods and Procedures | 4/1/96 | 3/12/97, 62 FR 11334
5-40-7900 | Monitoring | 4/1/96 | 3/12/97, 62 FR 11334
5-40-7910 | Notification, Records and Reporting | 4/1/96 | 3/12/97, 62 FR 11334
5-40-7920 | Registration | 4/1/96 | 3/12/97, 62 FR 11334
5-40-7930 | Facility and Control Equipment Maintenance and Malfunction | 4/1/96 | 3/12/97, 62 FR 11334
5-40-7940 | Permits | 4/1/96 | 3/12/97, 62 FR 11334
Article 47 Emission Standards for Solvent Metal Cleaning Operations in the Northern Virginia Volatile Organic Compound Emissions Control Area (Rule 4-47)
5-40-6820 | Applicability | 3/24/04 | 6/9/04, 69 FR 32277
5-40-6830 | Definitions | 3/24/04 | 6/9/04, 69 FR 32277
5-40-6840 | Standards for volatile organic compounds | 3/24/04 | 6/9/04, 69 FR 32277
5-40-6850 | Standard for visible emissions | 3/24/04 | 6/9/04, 69 FR 32277
5-40-6860 | Standard for fugitive dust/emissions | 3/24/04 | 6/9/04, 69 FR 32277
5-40-6890 | Compliance | 3/24/04 | 6/9/04, 69 FR 32277
5-40-6900 | Compliance schedules | 3/24/04 | 6/9/04, 69 FR 32277
5-40-6910 | Test methods and procedures | 3/24/04 | 6/9/04, 69 FR 32277
5-40-6920 | Monitoring | 3/24/04 | 6/9/04, 69 FR 32277
5-40-6930 | Notification, records and reporting | 3/24/04 | 6/9/04, 69 FR 32277
5-40-6940 | Registration | 3/24/04 | 6/9/04, 69 FR 32277
5-40-6950 | Facility and control equipment maintenance or malfunction | 3/24/04 | 6/9/04, 69 FR 32277
5-40-6960 | Permits | 3/24/04 | 6/9/04, 69 FR 32277
Article 48 Emission Standards for Mobile Equipment Repair and Refinishing Operations in the Northern Virginia Volatile Organic Compound Emissions Control Area (Rule 4-48)
5-40-6970 | Applicability and designation of affected facility | 3/24/04 | 6/24/04, 69 FR 35253
5-40-6980 | Definitions | 3/24/04 | 6/24/04, 69 FR 35253
5-40-6990 | Standards for volatile organic compounds | 3/24/04 | 6/24/04, 69 FR 35253
5-40-7000 | Standard for visible emissions | 3/24/04 | 6/24/04, 69 FR 35253
5-40-7010 | Standard for fugitive dust/emissions | 3/24/04 | 6/24/04, 69 FR 35253
5-40-7040 | Compliance | 3/24/04 | 6/24/04, 69 FR 35253
5-40-7050 | Compliance schedule | 3/24/04 | 6/24/04, 69 FR 35253
5-40-7060 | Test methods and procedures | 3/24/04 | 6/24/04, 69 FR 35253
5-40-7070 | Monitoring | 3/24/04 | 6/24/04, 69 FR 35253
5-40-7080 | Notification, records and reporting | 3/24/04 | 6/24/04, 69 FR 35253
5-40-7090 | Registration | 3/24/04 | 6/24/04, 69 FR 35253
5-40-7100 | Facility and control equipment maintenance or malfunction | 3/24/04 | 6/24/04, 69 FR 35253
5-40-7110 | Permits | 3/24/04 | 6/24/04, 69 FR 35253
Article 49 Architectural and Industrial Maintenance Coatings (Rule 4-49)
5-40-7120 | Applicability and designation of affected facility | 3/24/04 | 5/12/05, 70 FR 24970
5-40-7130 | Definitions | 3/24/04 | 5/12/05, 70 FR 24970
5-40-7140 | Standard for volatile organic compounds | 3/24/04 | 5/12/05, 70 FR 24970
5-40-7150 | Container labeling requirements | 3/24/04 | 5/12/05, 70 FR 24970
5-40-7160 | Standard for visible emissions | 3/24/04 | 5/12/05, 70 FR 24970
5-40-7170 | Standard for fugitive dust/emissions | 3/24/04 | 5/12/05, 70 FR 24970
5-40-7200 | Compliance | 3/24/04 | 5/12/05, 70 FR 24970
5-40-7210 | Compliance schedules | 3/24/04 | 5/12/05, 70 FR 24970
5-40-7220 | Test methods and procedures | 3/24/04 | 5/12/05, 70 FR 24970
5-40-7230 | Notification, records and reporting | 3/24/04 | 5/12/05, 70 FR 24970
Chapter 50 New and Modified Stationary Sources [Part V]
Part I Special Provisions
5-50-10 | Applicability | 8/1/02 | 3/15/04, 69 FR 12074 | Revised paragraphs B and C, added paragraph F.
5-50-20 | Compliance | 8/1/02 | 3/15/04, 69 FR 12074 | Added new paragraph A.2, renumbered paragraphs A.3 through A.5, and revised paragraph A.3; Added new paragraph G; revised paragraphs H, H.2, H.2a, H.3 and H.4; added new paragraph I.
5-50-30 | Performance testing | 8/1/02 | 3/15/04, 69 FR 12074 | Revised paragraphs A and F.1; Note: Revisions to paragraph C are not included in SIP revision.
5-50-40 | Monitoring | 8/1/02 | 3/15/04, 69 FR 12074 | Revised paragraphs C, and E.1 through E.8; Added new paragraph E.10.
5-50-50 | Notification, records and reporting | 8/1/02 | 3/15/04, 69 FR 12074 | Revised paragraphs A.1 through A.4, C, C.1 through C.3, D, E and F.
Part II Emission Standards
Article 1 Standards of Performance for Visible Emissions and Fugitive Dust/Emissions (Rule 5-1)
5-50-60 | Applicability and designation of affected facility | 4/17/95 | 4/21/00, 65 FR 21315 | 120-05-0101.
5-50-70 | Definitions | 4/17/95 | 4/21/00, 65 FR 21315 | 120-05-0102.
5-50-80 | Standard for visible emissions | 4/17/95, | 4/21/00, 65 FR 21315 | 120-05-0103.
5-50-90 | Standard for fugitive dust/emissions | 2/1/03 | 4/29/05, 70 FR 22263
5-50-100 | Monitoring | 4/17/95 | 4/21/00, 65 FR 21315 | 120-05-0105.
5-50-110 | Test methods and procedures | 4/17/95 | 4/21/00, 65 FR 21315 | 120-05-0106.
5-50-120 | Waivers | 2/1/03 | 4/29/05, 70 FR 22263
Article 4 Standards of Performance for Stationary Sources (Rule 5-4)
5-50-240 | Applicability and designation of affected facility | 4/17/95 | 4/21/00, 65 FR 21315 | 120-05-0401.
5-50-250 | Definitions | 4/17/95 | 4/21/00, 65 FR 21315 | 120-05-0402.
5-50-260 | Standard for stationary sources | 4/17/95 | 4/21/00, 65 FR 21315 | 120-05-0403.
5-50-270 | Standard for major stationary sources (nonattainment areas) | 4/17/95 | 4/21/00, 65 FR 21315 | 120-05-0404.
5-50-280 | Standard for major stationary sources (prevention of significant deterioration areas) | 4/17/95 | 4/21/00, 65 FR 21315 | 120-05-0405.
5-50-290 | Standard for visible emissions | 4/17/95 | 4/21/00, 65 FR 21315 | 120-05-0406.
5-50-300 | Standard for fugitive dust/emissions | 4/17/95 | 4/21/00, 65 FR 21315 | 120-05-0407.
5-50-330 | Compliance | 4/17/95 | 4/21/00, 65 FR 21315 | 120-05-0410.
5-50-340 | Test methods and procedures | 4/17/95 | 4/21/00, 65 FR 21315 | 120-05-0411.
5-50-350 | Monitoring | 4/17/95 | 4/21/00, 65 FR 21315 | 120-05-0412.
5-50-360 | Notification, records and reporting | 4/17/95 | 4/21/00, 65 FR 21315 | 120-05-0413.
5-50-370 | Registration | 4/17/95 | 4/21/00, 65 FR 21315 | 120-05-0414.
5-50-380 | Facility and control equipment maintenance or malfunction | 4/17/95 | 4/21/00, 65 FR 21315 | 120-05-0415.
5-50-390 | Permits | 4/17/95 | 4/21/00, 65 FR 21315 | 120-05-0416.
Chapter 70 Air Pollution Episode Prevention [Part VII]
5-70-10 | Applicability | 4/17/95 | 4/21/00, 65 FR 21315 | 120-07-01.
5-70-20 | Definitions | 4/17/95 | 4/21/00, 65 FR 21315 | 120-07-02.
5-70-30 | General | 4/17/95 | 4/21/00, 65 FR 21315 | 120-07-03.
5-70-40 | Episode determination | 4/1/99 | 10/19/00, 65 FR 62626 | References to “TSP” have been removed.
5-70-50 | Standby emission reduction plans | 4/17/95 | 4/21/00, 65 FR 21315 | 120-07-05.
5-70-60 | Control requirements | 4/17/95 | 4/21/00, 65 FR 21315 | 120-07-06.
5-70-70 | Local air pollution control agency participation | 4/17/95 | 4/21/00, 65 FR 21315 | 120-07-07.
Chapter 80 Permits for Stationary Sources [Part VIII]
5-80-10 | New and modified stationary sources | 4/17/95 | 4/21/00, 65 FR 21315 | 120-08-01.
10A | Applicability | 4/17/95 | 4/21/00, 65 FR 21315 | 01A.
10B | Definitions | 4/17/95 | 4/21/00, 65 FR 21315 | 01B.
10C (Exc.C.1.b) | General | 4/17/95 | 4/21/00, 65 FR 21315 | 01C. (Exc.C.1.b).
10D | Applications | 4/17/95 | 4/21/00, 65 FR 21315 | 01D.
10E | Information required | 4/17/95 | 4/21/00, 65 FR 21315 | 01E.
10F | Action on permit application | 4/17/95 | 4/21/00, 65 FR 21315 | 01F.
10G | Public participation | 4/17/95 | 4/21/00, 65 FR 21315 | 01G.; Exceptions: 10.G.1 and .10G.4.b.
VR120-08-01C.4.b., c | Public Participation—public hearing requirements for major modifications | 7/31/81; recodified 2/1/85 | 5/4/82 47 FR 19134; recodified 2/25/93, 58 FR 11373 | See § 52.2423(o).
10H.2. and 10H.3 | Standards for granting permits | 4/17/95 | 4/21/00, 65 FR 21315 | 01H.2. and 01H.3.
10I.1. and 10I.3 | Application review and analysis | 4/17/95 | 4/21/00, 65 FR 21315 | 01I.1. and 01I.3.
10J | Compliance determination and verification by performance testing | 4/17/95 | 4/21/00, 65 FR 21315 | 01J.
10K | Permit invalidation, revocation and enforcement | 4/17/95 | 4/21/00, 65 FR 21315 | 01K.
10L | Existence of permit no defense | 4/17/95 | 4/21/00, 65 FR 21315 | 01L.
10M | Compliance with local zoning requirements | 4/17/95 | 4/21/00, 65 FR 21315 | 01M.
10N | Reactivation and permanent shutdown | 4/17/95 | 4/21/00, 65 FR 21315 | 01N.
10O | Transfer of permits | 4/17/95 | 4/21/00, 65 FR 21315 | 01O.
10P | Circumvention | 4/17/95 | 4/21/00, 65 FR 21315 | 01P.
5-80-11 | Stationary source permit exemption levels | 7/1/97 | 4/21/00, 65 FR 21315 | Appendix R.
Article 5 State Operating Permits
5-80-800 | Applicability | 4/1/98 | 6/27/03, 68 FR 38191
5-80-810 | Definitions | 4/1/98 | 6/27/03, 68 FR 38191
5-80-820 | General | 4/1/98 | 6/27/03, 68 FR 38191
5-80-830 | Applications | 4/1/98 | 6/27/03, 68 FR 38191
5-80-840 | Application information required | 4/1/98 | 6/27/03, 68 FR 38191
5-80-850 | Standards and conditions for granting permits | 4/1/98 | 6/27/03, 68 FR 38191
5-80-860 | Action on permit application | 4/1/98 | 6/27/03, 68 FR 38191
5-80-870 | Application review and analysis | 4/1/98 | 6/27/03, 68 FR 38191
5-80-880 | Compliance determination and verification by testing | 4/1/98 | 6/27/03, 68 FR 38191
5-80-890 | Monitoring requirements | 4/1/98 | 6/27/03, 68 FR 38191
5-80-900 | Reporting requirements | 4/1/98 | 6/27/03, 68 FR 38191
5-80-910 | Existence of permits no defense | 4/1/98 | 6/27/03, 68 FR 38191
5-80-920 | Circumvention | 4/1/98 | 6/27/03, 68 FR 38191
5-80-930 | Compliance with local zoning requirements | 4/1/98 | 6/27/03 68, FR 38191
5-80-940 | Transfer of permits | 4/1/98 | 6/27/03, 68 FR 38191
5-80-950 | Termination of permits | 4/1/98 | 6/27/03, 68 FR 38191
5-80-960 | Changes to permits | 4/1/98 | 6/27/03, 68 FR 38191
5-80-970 | Administrative permit amendments | 4/1/98 | 6/27/03, 68 FR 38191
5-80-980 | Minor permit amendments | 4/1/98 | 6/27/03, 68 FR 38191
5-80-990 | Significant permit amendments | 4/1/98 | 6/27/03, 68 FR 38191
5-80-1000 | Reopening for cause | 4/1/98 | 6/27/03, 68 FR 38191
5-80-1010 | Enforcement | 4/1/98 | 6/27/03, 68 FR 38191
5-80-1020 | Public participation | 4/1/98 | 6/27/03, 68 FR 38191
5-80-1030 | General permits | 4/1/98 | 6/27/03, 68 FR 38191
5-80-1040 | Review and evaluation of article | 4/1/98 | 6/27/03, 68 FR 38191
Article 8 Permits-Major Stationary Sources and Major Modifications Located in Prevention of Significant Deterioration Areas
5-80-1700 | Applicability | 1/1/97 | 3/23/98, 63 FR 13795
5-80-1710 | Definitions | 1/1/97 | 3/23/98, 63 FR 13795
5-80-1720 | General | 1/1/97 | 3/23/98, 63 FR 13795
5-80-1730 | Ambient Air Increments | 1/1/97 | 3/23/98, 63 FR 13795
5-80-1740 | Ambient Air Ceilings | 1/1/97 | 3/23/98, 63 FR 13795
5-80-1750 | Applications | 1/1/97 | 3/23/98, 63 FR 13795
5-80-1760 | Compliance with Local Zoning Requirements | 1/1/97 | 3/23/98, 63 FR 13795
5-80-1770 | Compliance Determination and Verification by Performance Testing | 1/1/97 | 3/23/98, 63 FR 13795
5-80-1780 | Stack Heights | 1/1/97 | 3/23/98, 63 FR 13795
5-80-1790 | Review of Major Stationary Sources and Major Modifications—Source Applicability and Exemptions | 1/1/97 | 3/23/98, 63 FR 13795
5-80-1800 | Control Technology Review | 1/1/97 | 3/23/98, 63 FR 13795
5-80-1810 | Source Impact Analysis | 1/1/97 | 3/23/98, 63 FR 13795
5-80-1820 | Air Quality Models | 1/1/97 | 3/23/98, 63 FR 13795
5-80-1830 | Air Quality Analysis | 1/1/97 | 3/23/98, 63 FR 13795
5-80-1840 | Source Information | 1/1/97 | 3/23/98, 63 FR 13795
5-80-1850 | Additional Impact Analyses | 1/1/97 | 3/23/98, 63 FR 13795
5-80-1860 | Sources Impacting Federal Class I Areas—Additional Requirements | 1/1/97 | 3/23/98, 63 FR 13795
5-80-1870 | Public Participation | 1/1/97 | 3/23/98, 63 FR 13795
5-80-1880 | Source Obligation | 1/1/97 | 3/23/98, 63 FR 13795
5-80-1890 | Environmental Impact Statements | 1/1/97 | 3/23/98, 63 FR 13795
5-80-1900 | Disputed Permits | 1/1/97 | 3/23/98, 63 FR 13795
5-80-1910 | Interstate Pollution Abatement | 1/1/97 | 3/23/98, 63 FR 13795
5-80-1920 | Innovative Control Technology | 1/1/97 | 3/23/98, 63 FR 13795
5-80-1930 | Reactivation and Permanent Shutdown | 1/1/97 | 3/23/98, 63 FR 13795
5-80-1940 | Transfer of Permits | 1/1/97 | 3/23/98, 63 FR 13795
5-80-1950 | Permit Invalidation, Revocation, and Enforcement | 1/1/97 | 3/23/98, 63 FR 13795
5-80-1960 | Circumvention | 1/1/97 | 3/23/98, 63 FR 13795
5-80-1970 | Review and Confirmation of this Chapter by Board | 1/1/97 | 3/23/98, 63 FR 13795
Article 9 Permits—Major Stationary Sources and Major Modifications Located in Nonattainment Areas [120-08-03]
5-80-2000 | Applicability | 1/1/93, 4/1/99 | 4/21/00, 65 FR 21315 | .03A (9/21/99, 64 FR 51047).
5-80-2010 | Definitions | 1/1/93, 4/1/99 | 4/21/00, 65 FR 21315 | .03B (9/21/99, 64 FR 51047).
5-80-2020 | General | 1/1/93, 4/1/99 | 4/21/00, 65 FR 21315 | .03C (9/21/99, 64 FR 51047).
5-80-2030 | Applications | 1/1/93, 4/1/99 | 4/21/00, 65 FR 21315 | .03D (9/21/99, 64 FR 51047).
5-80-2040 | Information required | 1/1/93, 4/1/99 | 4/21/00, 65 FR 21315 | .03E (9/21/99, 64 FR 51047).
5-80-2050 | Standards/conditions for granting permits. | 1/1/93, 4/1/99 | 4/21/00, 65 FR 21315 | .03F (9/21/99, 64 FR 51047).
5-80-2060 | Action on permit application | 1/1/93, 4/1/99 | 4/21/00, 65 FR 21315 | .03G (9/21/99, 64 FR 51047).
5-80-2070 | Public Participation | 1/1/93, 4/1/99 | 4/21/00, 65 FR 21315 | .03H (9/21/99, 64 FR 51047).
5-80-2080 | Compliance determination and verification by performance testing | 1/1/93, 4/1/99 | 4/21/00, 65 FR 21315 | .03I (9/21/99, 64 FR 51047).
5-80-2090 | Application review and analysis | 1/1/93, 4/1/99 | 4/21/00, 65 FR 21315 | .03J (9/21/99, 64 FR 51047).
5-80-2100 | Circumvention | 1/1/93, 4/1/99 | 4/21/00, 65 FR 21315 | .03K (9/21/99, 64 FR 51047).
5-80-2110 | Interstate pollution abatement | 1/1/93, 4/1/99 | 4/21/00, 65 FR 21315 | .03L (9/21/99, 64 FR 51047).
5-80-2120 | Offsets. | 1/1/93, 4/1/99 | 4/21/00, 65 FR 21315 | .03M (9/21/99, 64 FR 51047).
5-80-2130 | De minimis increases and stationary source modification alternatives for ozone nonattainment areas classified as serious or severe in 9 VAC 5-20-204 | 1/1/93, 4/1/99 | 4/21/00, 65 FR 21315 | .03N (9/21/99, 64 FR 51047).
5-80-2140 | Exception | 1/1/93, 4/1/99 | 4/21/00, 65 FR 21315 | .03O (9/21/99, 64 FR 51047).
5-80-2150 | Compliance with local zoning requirements | 1/1/93, 4/1/99 | 4/21/00, 65 FR 21315 | .03P (9/21/99, 64 FR 51047).
5-80-2160 | Reactivation and Permit Shutdown | 1/1/93, 4/1/99 | 4/21/00, 65 FR 21315 | .03Q (9/21/99, 64 FR 51047).
5-80-2170 | Transfer of Permits | 1/1/93, 4/1/99 | 4/21/00, 65 FR 21315 | .03R (9/21/99, 64 FR 51047).
5-80-2180 | Revocation of permit | 1/1/93, 4/1/99 | 4/21/00, 65 FR 21315 | .03S (9/21/99, 64 FR 51047).
5-80-2190 | Existence of permit no defense | 1/1/93, 4/1/99 | 4/21/00, 65 FR 21315 | .03T (9/21/99, 64 FR 51047).
Chapter 91 Regulations for the Control of Motor Vehicle Emissions in the Northern Virginia Area
Part I Definitions
5-91-10 | General | 1/24/97 | 9/1/99, 64 FR 47670
5-91-20 | Terms Defined | 1/24/97 | 9/1/99, 64 FR 47670 | Exception—“Northern Virginia program area” does not include Fauquier County, Effective 1/1/98.
Part II General Provisions
5-91-30 | Applicability and authority of the department | 1/24/97 | 9/1/99, 64 FR 47670
5-91-40 | Establishment of Regulations and Orders | 1/24/97 | 9/1/99, 64 FR 47670
5-91-50 | Documents Incorporated by Reference | 1/24/97 | 9/1/99, 64 FR 47670
5-91-60 | Hearings and Proceedings | 1/24/97 | 9/1/99, 64 FR 47670
5-91-70 | Appeal of Case Decisions | 1/24/97 | 9/1/99, 64 FR 47670
5-91-80 | Variances | 1/24/97 | 9/1/99, 64 FR 47670
5-91-90 | Right of entry | 1/24/97 | 9/1/99, 64 FR 47670
5-91-100 | Conditions on approvals | 1/24/97 | 9/1/99, 64 FR 47670
5-91-110 | Procedural information and guidance | 1/24/97 | 9/1/99, 64 FR 47670
5-91-120 | Export and import of motor vehicles | 1/24/97 | 9/1/99, 64 FR 47670
5-91-130 | Relationship of state regulations to federal regulations | 1/24/97 | 9/1/99, 64 FR 47670
5-91-140 | Delegation of authority | 1/24/97 | 9/1/99, 64 FR 47670
5-91-150 | Availability of information | 1/24/97 | 9/1/99, 64 FR 47670
Part III Emission Standards for Motor Vehicle Air Pollution
5-91-160 | Exhaust emission standards for two-speed idle testing in enhanced emissions inspection programs | 1/24/97 | 9/1/99, 64 FR 47670
5-91-170 | Exhaust emission standards for ASM testing in enhanced emissions inspection programs | 1/24/97 | 9/1/99, 64 FR 47670
5-91-180 | Exhaust emission standards for on-road testing through remote sensing | 1/24/97 | 9/1/99, 64 FR 47670
5-91-190 | Emissions control systems standards | 1/24/97 | 9/1/99, 64 FR 47670
5-91-200 | Evaporative emissions standards | 1/24/97 | 9/1/99 64, FR 47670
5-91-210 | Visible emissions standards | 1/24/97 | 9/1/99, 64 FR 47670
Part IV Permitting and Operation of Emissions Inspection Stations
5-91-220 | General provisions | 1/24/97 | 9/1/99, 64 FR 47670
5-91-230 | Applications | 1/24/97 | 9/1/99, 64 FR 47670
5-91-240 | Standards and conditions for permits | 1/24/97 | 9/1/99, 64 FR 47670
5-91-250 | Action on permit application | 1/27/97 | 9/1/99, 64 FR 47670
5-91-260 | Emissions inspection station permits, categories | 1/24/97 | 9/1/99, 64 FR 47670
5-91-270 | Permit renewals | 1/24/97 | 9/1/99, 64 FR 47670
5-91-280 | Permit revocation, surrender of materials | 1/24/97 | 9/1/99, 64 FR 47670
5-91-290 | Emission inspection station operations | 1/24/97 | 9/1/99, 64 FR 47670
5-91-300 | Emissions inspection station records | 1/24/97 | 9/1/99, 64 FR 47670
5-91-310 | Sign and permit posting | 1/24/97 | 9/1/99, 64 FR 47670
5-91-320 | Equipment and facility requirements | 1/24/97 | 9/1/99, 64 FR 47670
5-91-330 | Analyzer system operation | 1/24/97 | 9/1/99, 64 FR 47670
5-91-340 | Motor vehicle inspection report; certificate of emission inspection | 1/24/97 | 9/1/99, 64 FR 47670
5-91-350 | Data media | 1/24/97 | 9/1/99, 64 FR 47670
5-91-360 | Inspector number and access code usage | 1/24/97 | 9/1/99, 64 FR 47670
5-91-370 | Fleet emissions inspection stations; mobile fleet emissions inspection stations | 1/24/97 | 9/1/99, 64 FR 47670
Part V Emissions Inspector Testing and Licensing
5-91-380 | Emissions inspector licences and renewals | 1/24/97 | 9/1/99, 64 FR 47670
5-91-390 | Qualification requirements for emissions inspector licenses | 1/24/97 | 9/1/99, 64 FR 47670
5-91-400 | Conduct of emissions inspectors | 1/24/97 | 9/1/99, 64 FR 47670
Part VI Inspection Procedures
5-91-410 | General | 1/24/97 | 9/1/99, 64 FR 47670
5-91-420 | Inspection procedure; rejection, pass, fail, waiver | 1/24/97 | 9/1/99, 64 FR 47670
5-91-430 | ASM test procedure | 1/24/97 | 9/1/99, 64 FR 47670
5-91-440 | Two-speed idle test procedure | 1/24/97 | 9/1/99, 64 FR 47670
4-91-450 | Fuel system evaporative pressure test and gas cap pressure test procedure | 1/24/97 | 9/1/99, 64 FR 47670
4-91-460 | Fuel system evaporative purge test procedure | 1/24/97 | 9/1/99, 64 FR 47670
5-91-470 | Short test standards for warranty eligibility | 1/24/97 | 9/1/99, 64 FR 47670
5-91-480 | Emissions related repairs | 1/24/97 | 9/1/99, 64 FR 47670
5-91-490 | Engine and fuel changes | 1/24/97 | 9/1/99, 64 FR 47670
Part VII Vehicle Emissions Repair Facility Certification
5-91-500 | Applicability and Authority | 1/24/97 | 9/1/99, 64 FR 47670
5-91-510 | Certification Qualifications | 1/24/97 | 9/1/99, 64 FR 47670
5-91-520 | Expiration, reinstatement, renewal, and requalification | 1/24/97 | 9/1/99, 64 FR 47670
5-91-530 | Emissions repair facility operations | 1/24/97 | 9/1/99, 64 FR 47670
5-91-540 | Sign Posting | 1/24/97 | 9/1/99, 64 FR 47670
Part VIII Emissions Repair Technician Certification and Responsibilities
5-91-550 | Applicability and authority | 1/24/97 | 9/1/99, 64 FR 47670
5-91-560 | Certification qualifications for emissions repair technicians | 1/24/97 | 9/1/99, 64 FR 47670
5-91-570 | Expiration, reinstatement, renewal and requalification | 1/24/97 | 9/1/99, 64 FR 47670
5-91-580 | Certified emissions repair technician responsibilities | 1/24/97 | 9/1/99, 64 FR 47670
Part IX Enforcement Procedures
5-91-590 | Enforcement of regulations, permits, licenses, certifications and orders | 4/2/97 | 9/1/99, 64 FR 47670
5-91-600 | General enforcement process | 4/2/97 | 9/1/99, 64 FR 47670
5-91-610 | Consent orders and penalties for violations | 4/2/97 | 9/1/99, 64 FR 47670
5-91-620 | Major violations | 4/2/97 | 9/1/99, 64 FR 47670
5-91-630 | Minor violations | 4/2/97 | 9/1/99, 64 FR 47670
Part X Analyzer System Certification and Specifications for Enhanced Emissions Inspections Programs
5-91-640 | Applicability | 1/24/97 | 9/1/99, 64 FR 47670
5-91-650 | Design goals | 1/24/97 | 9/1/99, 64 FR 47670
5-91-660 | Warranty; service contract | 1/24/97 | 9/1/99, 64 FR 47670
5-91-670 | Owner provided services | 1/24/97 | 9/1/99, 64 FR 47670
5-91-680 | Certification of analyzer systems | 1/24/97 | 9/1/99, 64 FR 47670
5-91-690 | Span gases; gases for calibration purposes | 1/24/97 | 9/1/99, 64 FR 47670
5-91-700 | Calibration of exhaust gas analyzers | 1/24/97 | 9/1/99, 64 FR 47670
5-91-710 | Upgrade of analyzer system | 1/24/97 | 9/1/99, 64 FR 47670
Part XI Manufacturer Recall
5-91-720 | Vehicle manufacturer recall | 1/24/97 | 9/1/99, 64 FR 47670
5-91-730 | Exemptions; temporary extensions | 1/24/97 | 9/1/99, 64 FR 47670
Part XII On-Road Testing
5-91-740 | General Requirements | 1/24/97 | 9/1/99, 64 FR 47670
5-91-750 | Operating Procedures; violation of standards | 1/24/97 | 9/1/99, 64 FR 47670
5-91-760 | Schedule of civil charges | 1/24/97 | 9/1/99, 64 FR 47670
Part XIII Federal Facilities
5-91-770 | General requirements | 1/24/97 | 9/1/99, 64 FR 47670
5-91-780 | Proof of compliance | 1/24/97 | 9/1/99, 64 FR 47670
Part XIV ASM Exhaust Emission Standards
5-91-790 | ASM start-up standards | 1/24/97 | 9/1/99, 64 FR 47670
5-91-800 | ASM final standards | 1/24/97 | 9/1/99, 64 FR 47670
Chapter 140 Regulation for Emissions Trading
Part I NOX Budget Trading Program
Article 1 NOX Budget Trading Program General Provisions
5-140-10 | Purpose | 7/17/02 | 7/8/03, 68 FR 40520
5-140-20 | Definitions | 7/17/02 | 7/8/03, 68 FR 40520
5-140-30 | Measurements, abbreviations, and acronyms | 7/17/02 | 7/8/03, 68 FR 40520
5-140-31 | Federal Regulations Incorporated by reference | 7/17/02 | 7/8/03, 68 FR 40520
5-140-40 | Applicability | 7/17/02 | 7/8/03, 68 FR 40520
5-140-50 | Retired unit exemption | 7/17/02 | 7/8/03, 68 FR 40520
5-140-60 | Standard requirements | 7/17/02 | 7/8/03, 68 FR 40520
5-140-70 | Computation of time | 7/17/02 | 7/8/03, 68 FR 40520
Article 2 NOX Authorized Account Representative for NOX Budget Sources
5-140-100 | Authorization and responsibilities of the NOX authorized account representative | 7/17/02 | 7/8/03, 68 FR 40520
5-140-110 | Alternate NOX authorized account representative | 7/17/02 | 7/8/03, 68 FR 40520
5-140-120 | Changing the NOX authorized account representative and alternate NOX authorized account representative; changes in the owners and operators | 7/17/02 | 7/8/03, 68 FR 40520
5-140-130 | Account certificate of representation | 7/17/02 | 7/8/03, 68 FR 40520
5-140-140 | Objections concerning the NOX authorized account representative | 7/17/02 | 7/8/03, 68 FR 40520
Article 3 Permits
5-140-200 | General NOX Budget permit requirements | 7/17/02 | 7/8/03, 68 FR 40520
5-140-210 | Submission of NOX Budget permit applications | 7/17/02 | 7/8/03, 68 FR 40520
5-140-220 | Information requirements for NOX Budget permit applications | 7/17/02 | 7/8/03, 68 FR 40520
5-140-230 | NOX Budget permit contents | 7/17/02 | 7/8/03, 68 FR 40520
5-140-240 | Effective date of initial NOX Budget permit | 7/17/02 | 7/8/03, 68 FR 40520
5-140-250 | NOX Budget permit revisions | 7/17/02 | 7/8/03, 68 FR 40520
Article 4 Compliance Certification
5-140-300 | Compliance certification report | 7/17/02 | 7/8/03, 68 FR 40520
5-140-310 | Permitting authority's and administrator's action on compliance certifications | 7/17/02 | 7/8/03, 68 FR 40520
Article 5 NOX Allowance Allocations
5-140-400 | State trading program budget | 7/17/02 | 7/8/03, 68 FR 40520
5-140-410 | Timing requirements for NOX allowance allocations | 7/17/02 | 7/8/03, 68 FR 40520
5-140-420 | NOX allowance allocations | 7/17/02 | 7/8/03, 68 FR 40520
5-140-430 | Compliance Supplement Pool | 7/17/02 | 7/8/03, 68 FR 40520
Article 6 NOX Allowance Tracking System
5-140-500 | NOX Allowance Tracking System accounts | 7/17/02 | 7/8/03, 68 FR 40520.
5-140-510 | Establishment of accounts | 7/17/02 | 7/8/03, 68 FR 40520
5-140-520 | NOX Allowance Tracking System responsibilities of NOX authorized account representative | 7/17/02 | 7/8/03, 68 FR 40520
5-140-530 | Recordation of NOX allowance allocations | 7/17/02 | 7/8/03, 68 FR 40520
5-140-540 | Compliance | 7/17/02 | 7/8/03, 68 FR 40520
5-140-550 | Banking | 3/24/04 | 8/25/04, 69 FR 52174
5-140-560 | Account error | 7/17/02 | 7/8/03, 68 FR 40520
5-140-570 | Closing of general accounts | 7/17/02 | 7/8/03, 68 FR 40520
Article 7 NOX Allowance Transfers
5-140-600 | Scope and submission of NOX allowance transfers | 7/17/02 | 7/8/03, 68 FR 40520
5-140-610 | EPA recordation | 7/17/02 | 7/8/03, 68 FR 40520
5-140-620 | Notification | 7/17/02 | 7/8/03, 68 FR 40520
Article 8 Monitoring and Reporting
5-140-700 | General Requirements | 7/17/02 | 7/8/03, 68 FR 40520
5-140-710 | Initial certification and recertification procedures | 7/17/02 | 7/8/03, 68 FR 40520
5-140-720 | Out of control periods | 7/17/02 | 7/8/03, 68 FR 40520
5-140-730 | Notifications | 7/17/02 | 7/8/03, 68 FR 40520
5-140-740 | Recordkeeping and reporting | 7/17/02 | 7/8/03, 68 FR 40520
5-140-750 | Petitions | 7/17/02 | 7/8/03, 68 FR 40520
5-140-760 | Additional requirements to provide heat input data for allocation purposes | 7/17/02 | 7/8/03, 68 FR 40520
Article 9 Individual Unit Opt-ins
5-140-800 | Applicability | 7/17/02 | 7/8/03, 68 FR 40520
5-140-810 | General | 7/17/02 | 7/8/03, 68 FR 40520
5-140-820 | NOX authorized account representative | 7/17/02 | 7/8/03, 68 FR 40520
5-140-830 | Applying for NOX Budget opt-in permit | 7/17/02 | 7/8/03, 68 FR 40520
5-140-840 | Opt-in process | 7/17/02 | 7/8/03, 68 FR 40520
5-140-850 | NOX Budget opt-in permit contents | 7/17/02 | 7/8/03, 68 FR 40520
5-140-860 | Withdrawal from NOX Budget Trading Program | 7/17/02 | 7/8/03, 68 FR 40520
5-140-870 | Change in regulatory status | 7/17/02 | 7/8/03, 68 FR 40520
5-140-880 | NOX allowance allocations to opt-in units | 7/17/02 | 7/8/03, 68 FR 40520
Article 10 State Trading Program Budget and Compliance Pool
5-140-900 | State trading program budget | 7/17/02 | 7/8/03, 68 FR 40520
5-140-910 | Compliance supplement pool budget | 7/17/02 | 7/8/03, 68 FR 40520
5-140-920 | Total electric generating unit allocations | 7/17/02 | 7/8/03, 68 FR 40520
5-140-930 | Total non-electric generating unit allocations | 7/17/02 | 7/8/03, 68 FR 40520
Chapter 160 Regulation for General Conformity
Part I General Definitions
5-160-10 | General | 1/1/98 | 1/7/03, 68 FR 663
5-160-20 | Terms Defined | 1/1/97 | 10/21/97, 62 FR 54585
5-160-20 | Terms Defined | 1/1/97 1/1/98 | 1/7/03, 68 FR 663 | Terms revised-Emergency Terms deleted-Administrative Process Act, Confidential information, Consent agreement, Consent order, Emergency special order, Formal hearing, Order, Party, Public hearing, Special order, Variance, Virginia Register Act.
Part II General Provisions
5-160-30 | Applicability | 1/1/97 | 10/21/97, 62 FR 54585
5-160-40 | Authority of board and department | 1/1/97 | 10/21/97, 62 FR 54585
5-160-80 | Relationship of state regulations to federal regulations | 1/1/97 | 10/21/97, 62 FR 54585
Part III Criteria and Procedures for Making Conformity Determinations
5-160-110 | General | 1/1/97 | 10/21/97, 62 FR 54585 | § 52.2465(c)(118).
5-160-120 | Conformity analysis | 1/1/97 | 10/21/97, 62 FR 54585
5-160-130 | Reporting requirements | 1/1/97 | 10/21/97, 62 FR 54585
5-160-140 | Public participation | 1/1/97 | 10/21/97, 62 FR 54585
5-160-150 | Frequency of conformity determinations | 1/1/97 | 10/21/97, 62 FR 54585
5-160-160 | Criteria for determining conformity | 1/1/97 | 10/21/97, 62 FR 54585
5-160-170 | Procedures for conformity determinations | 1/1/97 | 10/21/97, 62 FR 54585
5-160-180 | Mitigation of air quality impacts | 1/1/97 | 10/21/97, 62 FR 54585
5-160-190 | Savings provision | 1/1/97 | 10/21/97, 62 FR 54585
5-160-200 | Review and confirmation of this chapter by board | 1/1/97 | 10/21/97, 62 FR 54585
Chapter 170 Regulation for General Administration
Part I Definitions
5-170-10 | Use of Terms | 1/1/98 | 1/7/03, 68 FR 663 | Split out from 9 VAC 5-10-10.
5-170-20 | Terms Defined | 1/1/98 | 1/7/03, 68 FR 663 | Split out from 9 VAC 5-10-20 and 5-160-20 Terms Added-Public hearing, Regulation of the Board Terms Revised from 4/17/95 version-Consent agreement, Consent order, Emergency special order, Order, Owner, Person, Pollutant, Special Order, Source.
Part II General Provisions
5-170-30 | Applicability | 1/1/98 | 1/7/03, 68 FR 663 | Split out from 9 VAC 5-20-10.
5-170-60 | Availability of Information | 1/1/98 | 1/7/03, 68 FR 663 | Replaces 9 VAC 5-20-150 and 5-160-100.
Part V Enforcement
5-170-120A.-C. | Enforcement of Regulations, Permits and Orders | 1/1/98 | 1/7/03, 68 FR 663 | Replaces 9 VAC 5-20-30A.-D. and 5-160-60.
5-170-130A. | Right of Entry | 1/1/98 | 1/7/03, 68 FR 663 | Replaces 9 VAC 5-20-100.
Part VI Board Actions
5-170-150 | Local Ordinances | 1/1/98 | 1/7/03, 68 FR 663 | Replaces 9 VAC 5-20-60.
5-170-160 | Conditions on Approvals | 1/1/98 | 1/7/03, 68 FR 663 | Replaces 9 VAC 5-20-110.
5-170-170 | Considerations for Approval Actions | 1/1/98 | 1/7/03, 68 FR 663 | Replaces 9 VAC 5-20-140.
Chapter 200 National Low Emission Vehicle Program
5-200-10 | Definitions | 4/14/99 | 12/28/99, 64 FR 72564
5-200-20 | Participation in national LEV | 4/14/99 | 12/28/99, 64 FR 72564
5-200-30 | Transition from national LEV requirements to a Virginia Sec. 177 program | 4/14/99 | 12/28/99, 64 FR 72564
2 VAC 5 Chapter 480 Regulation Governing the Oxygenation of Gasoline
5-480-10 | Definitions | 11/1/93 | 1/7/03, 68 FR 663 | VR115-04-28, § 1.
5-480-20 | Applicability | 11/1/96 | 2/17/00, 65 FR 8051
5-480-30 | Minimum oxygenate content | 11/1/93 | 1/7/03, 68 FR 663 | VR115-04-28, § 3.
5-480-40 | Nature of oxygenates | 11/1/93 | 1/7/03, 68 FR 663 | VR115-04-28, § 4.
5-480-50 | Record keeping and transfer requirements | 11/1/93 | 1/7/03, 68 FR 663 | VR115-04-28, § 5.
5-480-60 | Gasoline pump labeling | 11/1/93 | 1/7/03, 68 FR 663 | VR115-04-28, § 6.
5-480-70 | Sampling, testing and oxygen content calculations | 11/1/93 | 1/7/03, 68 FR 663 | VR115-04-28, § 7.
5-480-80 | Compliance and enforcement | 11/1/93 | 1/7/03, 68 FR 663 | VR115-04-28, § 8.
Code of Virginia
Section 10.1-1316.1A. Through D | Severe ozone nonattainment areas; fees | 7/1/04 | 12/29/04, 69 FR 77909 | Provision authorizes the Department of Environmental Quality (DEQ) to collect Federal penalty fees from major stationary sources if the nonattainment area does not attain the ozone standard by the statutory attainment date.

(d) EPA-Approved State Source Specific Requirements

EPA-Approved Source Specific Requirements
Source name | Permit/order or registration number | State effective date | EPA approval date | 40 CFR part 52 citation
Norfolk Naval Base-Exchange Service Station | [NONE] | 8/6/79 | 8/17/81, 46 FR 41499 | 52.2465(c)(41).
Reynolds Metal Co.—Rolling Mill | DSE-597-87 | 9/30/87 | 8/20/90, 55 FR 33904 | 52.2465(c)(92).
Aqualon (Hercules) Company | 50363 | 9/26/90 | 11/1/91, 56 FR 56159 | 52.2465(c)(93).
Nabisco Brands, Inc. | DTE-179-91 | 4/24/91 | 3/6/92, 57 FR 8080 | 52.2465(c)(95).
Burlington Industries | 30401 | 11/19/91 | 3/18/92, 57 FR 9388 | 52.2465(c)(96).
Reynolds Metals. Co.—Bellwood | DSE-413A-86 | 10/31/86 | 6/13/96, 61 FR 29963 | 52.2465(c)(110).
Reynolds Metal Co.—Richmond Foil Plant | DSE-412A-86 | 10/31/86 | 6/13/96, 61 FR 29963 | 52.2465(c)(110).
Philip Morris, Inc.—Blended Leaf Facility | 50080 | 2/27/86 | 10/14/97, 62 FR 53277 | 52.2465(c)(120).
Philip Morris, Inc.—Park 500 Facility | 50722 | 3/26/97 | 10/14/97, 62 FR 53277 | 52.2465(c)(120).
Philip Morris, Inc.—Richmond Manufacturing Center | 50076 | 7/13/96 | 10/14/97, 62 FR 53277 | 52.2465(c)(120).
Virginia Electric and Power Co.—Innsbrook Technical Center | 50396 | 5/30/96 | 10/14/97, 62 FR 53277 | 52.2465(c)(120).
Hercules, Inc.—Aqualon Division | V-0163-96 | 7/12/96 | 10/14/97, 62 FR 53277 | 52.2465(c)(120).
City of Hopewell—Regional Wastewater Treatment Facility | 50735 | 5/30/96 | 10/14/97, 62 FR 53277 | 52.2465(c)(120).
Allied Signal, Inc.—Hopewell Plant | 50232 | 3/26/97 | 10/14/97, 62 FR 53277 | 52.2465(c)(121).
Allied Signal, Inc.—Chesterfield Plant | V-0114-96 | 5/20/96 | 10/14/97, 62 FR 53277 | 52.2465(c)(121).
Bear Island Paper Co. L.P. | V-0135-96 | 7/12/96 | 10/14/97, 62 FR 53277 | 52.2465(c)(121).
Stone Container Corp.—Hopewell Mill | 50370 | 5/30/96 | 10/14/97, 62 FR 53277 | 52.2465(c)(121).
E.I. Dupont de Nemours and Co.—Spruance Plant | V-0117-96 | 5/30/96 | 10/14/97, 62 FR 53277 | 52.2465(c)(121).
ICI Americas Inc.—Films Division-Hopewell Site | 50418 | 5/30/96 | 10/14/97, 62 FR 53277 | 52.2465(c)(121).
Tuscarora, Inc. | 71814 | 6/5/96 | 1/22/99, 64 FR 3425 | 52.2465(c)(128).
Potomac Electric Power Company (PEPCO)—Potomac River Generation Station [Permit to Operate] | Registration No. 70228; County-Plant No. 510-0003 | 9/18/00 | 12/14/00, 65 FR 78100 | 52.2420(d)(2).
Virginia Power (VP)—Possum Point Generating Station [Permit to Operate] | Registration No. 70225; County-Plant No. 153-0002 | 9/26/00 | 12/14/00, 65 FR 78100 | 52.2420(d)(2).
Cellofoam North America, Inc.—Falmouth Plant [Consent Agreement] | Registration No. 40696 FSO-193-98 | 8/10/98 | 1/02/01, 66 FR 8 | 52.2420(d)(3).
CNG Transmission Corporation—Leesburg Compressor Station [Permit to Operate] | Registration No. 71978 County-Plant No. 107-0101 | 5/22/00 | 1/02/01, 66 FR 8 | 52.2420(d)(3).
Columbia Gas Transmission Company—Loudoun County Compressor Station [Permit to Operate] | Registration No. 72265 County-Plant No. 107-0125 | 5/23/00 | 1/02/01, 66 FR 8 | 52.2420(d)(3).
District of Columbia's Department of Corrections—Lorton Correctional Facility [Permit to Operate] | Registration NO. 70028 County-Plant No. 0059-0024 | 12/10/99 | 1/02/01, 66 FR 8 | 52.2420(d)(3).
Michigan Cogeneration Systems, Inc.—Fairfax County I-95 Landfill [Permit to Operate] | Registration No. 71961 County-Plant No. 0059-0575 | 5/10/00 | 1/02/01, 66 FR 8 | 52.2420(d)(3).
Metropolitan Washington Airports Authority—Ronald Reagan Washington National Airport [Permit to Operate] | Registration No. 70005 County-Plant No. 0013-0015 | 5/22/00 | 1/02/01, 66 FR 8 | 52.2420(d)(3).
Norman M. Cole, Jr., Pollution Control Plant [Consent Agreement] | Registration No. 70714 | 12/13/99 | 1/02/01, 66 FR 8 | 52.2420(d)(3).
Ogden Martin Systems of Alexandria/Arlington, Inc. [Consent Agreement] | Registration No. 71895 NVRO-041-98 | 7/31/98 | 1/02/01, 66 FR 8 | 52.2420(d)(3).
Ogden Martin Systems of Fairfax, Inc. [Consent Agreement] | Registration No. 71920 | 4/3/98 | 1/02/01, 66 FR 8 | 52.2420(d)(3).
U.S. Department of Defense—Pentagon Reservation [Permit to Operate] | Registration No. 70030 County-Plant No. 0013-0188 | 5/17/00 | 1/02/01, 66 FR 8 | 52.2420(d)(3).
Potomac Electric Power Company (PEPCO)—Potomac River Generating Station [Consent Agreement] | Registration No. 70228 NVRO-106-98 | 7/31/98 | 1/02/01, 66 FR 8 | 52.2420(d)(3) NOX RACT requirements.
Potomac Electric Power Company (PEPCO)—Potomac River Generating Station | Registration No. 70228; County Plant No. 510-0003 | 5/8/00 | 1/02/01, 66 FR 8 | 52.2420(d)(3) VOC RACT requirements.
United States Marine Corps.—Quantico Base [Permit to Operate] | Registration No. 70267 County-Plant No. 153-0010 | 5/24/00 | 1/02/01, 66 FR 8 | 52.2420(d)(3).
Transcontinental Gas Pipeline Corporation—Compressor Station No. 185 [Consent Agreement] | Registration No. 71598 | 9/5/96 | 1/02/01, 66 FR 8 | 52.2420(d)(3).
U.S. Army Garrison at Fort Belvoir [Permit to Operate] | Registration No. 70550 County-Plant No. 059-0018 | 5/16/00 | 1/02/01, 66 FR 8 | 52.2420(d)(3).
Virginia Power (VP)—Possum Point Generating Station [Permit containing NOX RACT requirements] | Registration No. 70225 County-Plant No. 153-0002 | 7/21/00 | 1/02/01, 66 FR 8 | 52.2420(d)(3).
Virginia Electric and Power Company—Possum Point Generating Station [Consent Agreement containing VOC RACT requirements] | Registration No. 70225 | 6/12/95 | 1/02/01, 66 FR 8 | 52.2420(d)(3).
Washington Gas Light Company—Springfield Operations Center [Consent Agreement] | Registration No. 70151 NVRO-031-98 | 4/3/98 | 1/02/01, 66 FR 8 | 52.2420(d)(3).
Georgia Pacific—Jarratt Softboard Plant | Registration No. 50253 | 9/28/98 | 3/26/03, 68 FR 14542 | 40 CFR 52.2420(d)(4); Note: In Section E, Provision 1, the portion of the text which reads “* * *and during periods of start-up, shutdown, and malfunction.” is not part of the SIP.
Prince William County Landfill | Registraton No. 72340 | 4/16/04 | 9/9/04, 69 FR 54581 | 52.2420(d)(5).
Washington Gas Company, Ravensworth Station | Registration No. 72277 | 4/16/04, 8/11/04 | 10/06/2004, 69 FR 59812 | 52.2420(d)(6).
Central Intelligence Agency (CIA), George Bush Center for Intelligence | Registration No. 71757 | 4/16/04 | 12/13/04, 69 FR 72115 | 52.2420(d)(6).
National Reconnaissance Office, Boeing Service Center | Registration No. 71988 | 4/16/04 | 12/13/04, 69 FR 72115 | 52.2420(d)(6).
Roanoke Electric Steel Corp. | Registration No. 20131 | 12/22/04 | 4/27/05, 70 FR 21621 | 52.2420(d)(7).
Roanoke Cement Company | Registraton No. 20232 | 12/22/04 | 4/27/05, 70 FR 21621 | 52.2420(d)(7).
Norfolk Southern Railway Company—East End Shops | Registration No. 20468 | 12/22/04 | 4/27/05 70 Fr 21621 | 52.2420(d)(7).
Global Stone Chemstone Corporation | Registration No. 80504 | 02/09/05 | 4/27/05 70 FR 21621 | 52.2420(d)(7).

* * * * *

[FR Doc. 05-21756 Filed 11-2-05; 8:45 am]

BILLING CODE 6560-50-P